DEPARTMENT OF COMMERCE

National Oceanic and Atmospheric Administration

50 CFR Part 679

[Docket No. 161020985-7181-02]

RIN 0648-XE989

Fisheries of the Exclusive Economic Zone Off Alaska; Bering Sea and Aleutian Islands; 2017 and 2018 Harvest Specifications for Groundfish

AGENCY: National Marine Fisheries Service (NMFS), National Oceanic and Atmospheric Administration (NOAA), Commerce.

ACTION: Final rule; closures.

SUMMARY: NMFS announces final 2017 and 2018 harvest specifications and prohibited species catch allowances for the groundfish fishery of the Bering Sea and Aleutian Islands management area (BSAI). This action is necessary to establish harvest limits for groundfish during the 2017 and 2018 fishing years, and to accomplish the goals and objectives of the Fishery Management Plan for Groundfish of the Bering Sea and Aleutian Islands Management Area (FMP). The intended effect of this action is to conserve and manage the groundfish resources in the BSAI in accordance with the Magnuson-Stevens Fishery Conservation and Management Act (Magnuson-Stevens Act).

DATES: Effective from 1200 hrs, Alaska local time (A.l.t.), February 27, 2017, through 2400 hrs, A.l.t., December 31, 2018.

ADDRESSES: Electronic copies of the Alaska Groundfish Harvest Specifications Final Environmental Impact Statement (EIS), Record of Decision (ROD), Supplementary Information Report (SIR) to the EIS, and the Initial Regulatory Flexibility Analysis (IRFA) prepared for this action are available from http://alaskafisheries.noaa.gov. The final 2016 Stock Assessment and Fishery Evaluation (SAFE) report for the groundfish resources of the BSAI, dated November 2016, as well as the SAFE reports for previous years, are available from the North Pacific Fishery Management Council (Council) at 605 West 4th Avenue, Suite 306, Anchorage, AK 99510-2252, phone 907-271-2809, or from the Council's Web site at http://www.npfmc.org/.

FOR FURTHER INFORMATION CONTACT: Steve Whitney, 907-586-7228.

SUPPLEMENTARY INFORMATION: Federal regulations at 50 CFR part 679 implement the FMP and govern the groundfish fisheries in the BSAI. The Council prepared the FMP, and NMFS approved it under the Magnuson-Stevens Act. General regulations governing U.S. fisheries also appear at 50 CFR part 600.

The FMP and its implementing regulations require NMFS, after consultation with the Council, to specify the total allowable catch (TAC) for each target species category. The sum TAC for all groundfish species must be within the optimum yield (OY) range of 1.4 million to 2.0 million metric tons (mt) (see § 679.20(a)(1)(i)(A)). This final rule specifies the TAC at 2.0 million mt for both 2017 and 2018. NMFS also must specify apportionments of TAC, as well as prohibited species catch (PSC) allowances and prohibited species quota (PSQ) reserves established by § 679.21; seasonal allowances of pollock, Pacific cod, and Atka mackerel TAC; Amendment 80 allocations; and Community Development Quota (CDQ) reserve amounts established by § 679.20(b)(1)(ii). The final harvest specifications set forth in Tables 1 through 26 of this action satisfy these requirements.

Section 679.20(c)(3)(i) further requires NMFS to consider public comment on the proposed annual TACs (and apportionments thereof) and PSC allowances, and to publish final harvest specifications in the Federal Register. The proposed 2017 and 2018 harvest specifications and PSC allowances for the groundfish fishery of the BSAI were published in the Federal Register on December 6, 2016 (81 FR 87863). Comments were invited and accepted through January 5, 2017. NMFS received one letter of comment on the proposed harvest specifications; this comment is summarized and responded to in the “Response to Comments” section of this rule. NMFS consulted with the Council on the final 2017 and 2018 harvest specifications during the December 2016 Council meeting in Anchorage, AK. After considering public comments, as well as biological and economic data that were available at the Council's December meeting, NMFS implements the final 2017 and 2018 harvest specifications as recommended by the Council.

Acceptable Biological Catch (ABC) and TAC Harvest Specifications

The final ABC levels for Alaska groundfish are based on the best available biological and socioeconomic information, including projected biomass trends, information on assumed distribution of stock biomass, and revised technical methods used to calculate stock biomass. In general, the development of ABCs and overfishing levels (OFLs) involves sophisticated statistical analyses of fish populations. The FMP specifies a series of six tiers to define OFL and ABC amounts based on the level of reliable information available to fishery scientists. Tier 1 represents the highest level of information quality available, while Tier 6 represents the lowest.

In December 2016, the Council, its Scientific and Statistical Committee (SSC), and its Advisory Panel (AP) reviewed current biological and harvest information about the condition of the BSAI groundfish stocks. The Council's BSAI Groundfish Plan Team (Plan Team) compiled and presented this information in the final 2016 SAFE report for the BSAI groundfish fisheries, dated November 2016 (see ADDRESSES). The SAFE report contains a review of the latest scientific analyses and estimates of each species' biomass and other biological parameters, as well as summaries of the available information on the BSAI ecosystem and the economic condition of groundfish fisheries off Alaska. NMFS notified the public of the comment period for these harvest specifications—and of the publication of the 2016 SAFE report—in the notice of proposed harvest specifications. From the data and analyses in the SAFE report, the Plan Team recommended an OFL and ABC for each species or species group at the November 2016 Plan Team meeting.

In December 2016, the SSC, AP, and Council reviewed the Plan Team's recommendations. The final TAC recommendations were based on the ABCs as adjusted for other biological and socioeconomic considerations, including maintaining the sum of all the TACs within the required OY range of 1.4 million to 2.0 million mt. As required by annual catch limit rules for all fisheries (74 FR 3178, January 16, 2009), none of the Council's recommended TACs for 2017 or 2018 exceed the final 2017 or 2018 ABCs for any species or species group. The Secretary of Commerce (Secretary) approves the final 2017 and 2018 harvest specifications as recommended by the Council. NMFS finds that the Council's recommended OFLs, ABCs, and TACs are consistent with the preferred harvest strategy and the biological condition of groundfish stocks as described in the 2016 SAFE report that was approved by the Council.

The 2017 harvest specifications set in this final action will supersede the 2017 harvest specifications previously set in the final 2016 and 2017 harvest specifications (81 FR 14773, March 18, 2016). The 2018 harvest specifications herein will be superseded in early 2018 when the final 2018 and 2019 harvest specifications are published. Pursuant to this final action, the 2017 harvest specifications therefore will apply for the remainder of the current year (2017), while the 2018 harvest specifications are projected only for the following year (2018) and will be superseded in early 2018 by the final 2018 and 2019 harvest specifications. Because this final action (published in early 2017) will be superseded in early 2018 by the publication of the final 2018 and 2019 harvest specifications, it is projected that this final action will implement the harvest specifications for the Bering Sea and Aleutian Islands for approximately one year.

Other Actions Potentially Affecting the 2017 and 2018 Harvest Specifications

The State of Alaska (State) manages separate Pacific cod fisheries in the Bering Sea subarea and the Aleutian Islands subarea. The State's guideline harvest level (GHL) fisheries are conducted independently of the Federal groundfish fisheries under direct regulation of the State. GHLs are derived from the Pacific cod ABC for the Bering Sea subarea and the Aleutian Islands subarea, and the TAC for each subarea is set at an amount less than or equal to the amount available after the annual GHL percentage has been deducted from the ABC. The State's GHLs for 2017 and 2018 are set equal to 6.4 percent of the Pacific cod ABC for the Bering Sea subarea and 27 percent of the Pacific cod ABC for the Aleutian Islands subarea. The Council and its Plan Team, Scientific and Statistical Committee, and Advisory Panel recommended that the sum of all State and Federal water Pacific cod removals from the Bering Sea subarea and the Aleutian Islands subarea not exceed the proposed ABC recommendations. Accordingly, the Council recommends setting the final 2017 and 2018 Pacific cod TACs in the Bering Sea subarea and the Aleutian Islands subarea to account for State GHLs.

NMFS has published the final rule to implement Amendment 113 (81 FR 84434, November 23, 2016). This rule sets aside a portion of the Aleutian Islands Pacific cod TAC for catcher vessels that directed fish for Aleutian Islands Pacific cod and then deliver the catch to Aleutian Islands shoreplants for processing. The set-aside applies only if specific notification and performance requirements are met. For 2017, NMFS has been notified that no shoreplants in the Aleutian Islands will be processing Pacific cod, and the set-aside is not in effect for 2017. For 2018, NMFS must be notified by October 31, 2017, that Aleutian Islands shoreplants intend to process Pacific cod for the 2018 set-aside to apply for catcher vessels that directed fish for Aleutian Islands Pacific cod and then deliver the catch to Aleutian Islands shoreplants for processing. If NMFS receives such notification from either the city of Adak or the city of Atka, then NMFS will set aside a portion of the TAC for Aleutian Islands subarea Pacific cod in 2018 for catcher vessels that directed fish for Aleutian Islands Pacific cod and deliver to Aleutian Islands shoreplants for processing.

Changes From the Proposed 2017 and 2018 Harvest Specifications for the BSAI

The Council's recommendations for the proposed 2017 and 2018 harvest specifications (81 FR 87863, December 6, 2016) were based largely on information contained in the 2015 SAFE report for the BSAI groundfish fisheries. Through the proposed harvest specifications, NMFS notified the public that these harvest specifications could change, as the Council would consider information contained in the final 2016 SAFE report; recommendations from the Plan Team, SSC, and AP committees; and public testimony when making its recommendations for final harvest specifications at the December 2016 Council meeting. NMFS further notified the public that, as required by the FMP and its implementing regulations, the sum of the TACs must be within the OY range of 1.4 million and 2.0 million mt.

Information contained in the 2016 SAFE report indicates biomass changes from the 2015 SAFE report for several groundfish species. The 2016 report was made available for public review during the public comment period for the proposed harvest specifications. At the December 2016 Council meeting, the SSC recommended the 2017 and 2018 ABCs for many species based on the best and most recent information contained in the 2016 SAFE reports. This recommendation resulted in an ABC sum total for all BSAI groundfish species in excess of 2 million mt for both 2017 and 2018.

Based on increased fishing effort in 2016, the Council recommends increasing Bering Sea and Aleutian Islands yellowfin sole TAC by 10,000 mt in 2017 and 2018. In terms of percentage, the largest increases in final TACs relative to the proposed TACs were for Bering Sea subarea Pacific Ocean perch and Bering Sea subarea Greenland turbot. These increases were to account for a higher interest in directed fishing than in 2016. Other increases in the final TACs relative to the proposed TACs included increases in Aleutian Islands subarea Pacific cod, sablefish, and Atka mackerel in all subareas. These increases were to account for higher interest in directed fishing or higher anticipated incidental catch needs.

Decreases in final TACs compared to the proposed TACs were for rock sole, flathead sole, rougheye rockfish, and shortraker rockfish. The decreases were to account for the requirement not to exceed the 2.0 million mt OY limit on overall TAC in the BSAI.

The changes to TACs between the proposed and final harvest specifications are based on the most recent scientific and economic information and are consistent with the FMP, regulatory obligations, and harvest strategy as described in the proposed harvest specifications, including the upper limit for OY of 2.0 million mt. These changes are compared in Table 1A.

Table 1 lists the Council's recommended final 2017 OFL, ABC, TAC, initial TAC (ITAC), and CDQ reserve amounts of the BSAI groundfish species or species groups; and Table 2 lists the Council's recommended final 2018 OFL, ABC, TAC, ITAC, and CDQ reserve amounts of the BSAI groundfish species or species groups. NMFS concurs in these recommendations. The final 2017 and 2018 TAC recommendations for the BSAI are within the OY range established for the BSAI and do not exceed the ABC for any species or species group. The apportionment of TAC amounts among fisheries and seasons is discussed below.

Table 1—Final 2017 Overfishing Level (OFL), Acceptable Biological Catch (ABC), Total Allowable Catch (TAC), Initial TAC (ITAC), and CDQ Reserve Allocation of Groundfish in the BSAI ¹
[Amounts are in metric tons]
Species | Area | 2017: OFL | 2017: ABC | 2017: TAC | 2017: ITAC ² | 2017: CDQ ³
Pollock ⁴ | BS | 3,640,000 | 2,800,000 | 1,345,000 | 1,210,500 | 134,500
| AI | 43,650 | 36,061 | 19,000 | 17,100 | 1,900
| Bogoslof | 130,428 | 60,800 | 500 | 500 | 0
Pacific cod ⁵ | BS | 284,000 | 239,000 | 223,704 | 199,768 | 23,936
| AI | 28,700 | 21,500 | 15,695 | 14,016 | 1,679
Sablefish | BS | 1,499 | 1,274 | 1,274 | 1,051 | 175
| AI | 2,044 | 1,735 | 1,735 | 1,410 | 293
Yellowfin sole | BSAI | 287,000 | 260,800 | 154,000 | 137,522 | 16,478
Greenland turbot | BSAI | 11,615 | 6,644 | 4,500 | 3,825 | n/a
| BS | n/a | 5,800 | 4,375 | 3,719 | 468
| AI | n/a | 844 | 125 | 106 | 0
Arrowtooth flounder | BSAI | 76,100 | 65,371 | 14,000 | 11,900 | 1,498
Kamchatka flounder | BSAI | 10,360 | 8,880 | 5,000 | 4,250 | 0
Rock sole | BSAI | 159,700 | 155,100 | 47,100 | 42,060 | 5,040
Flathead sole ⁶ | BSAI | 81,654 | 68,278 | 14,500 | 12,949 | 1,552
Alaska plaice | BSAI | 42,800 | 36,000 | 13,000 | 11,050 | 0
Other flatfish ⁷ | BSAI | 17,591 | 13,193 | 2,500 | 2,125 | 0
Pacific ocean perch | BSAI | 53,152 | 43,723 | 34,900 | 30,693 | n/a
| BS | n/a | 12,199 | 11,000 | 9,350 | 0
| EAI | n/a | 10,307 | 7,900 | 7,055 | 845
| CAI | n/a | 8,009 | 7,000 | 6,251 | 749
| WAI | n/a | 13,208 | 9,000 | 8,037 | 963
Northern rockfish | BSAI | 16,242 | 13,264 | 5,000 | 4,250 | 0
Blackspotted and Rougheye rockfish ⁸ | BSAI | 612 | 501 | 225 | 191 | 0
| BS/EAI | n/a | 306 | 100 | 85 | 0
| CAI/WAI | n/a | 195 | 125 | 106 | 0
Shortraker rockfish | BSAI | 666 | 499 | 125 | 106 | 0
Other rockfish ⁹ | BSAI | 1,816 | 1,362 | 875 | 744 | 0
| BS | n/a | 791 | 325 | 276 | 0
| AI | n/a | 571 | 550 | 468 | 0
Atka mackerel | BSAI | 102,700 | 87,200 | 65,000 | 58,045 | 6,955
| BS/EAI | n/a | 34,890 | 34,500 | 30,809 | 3,692
| CAI | n/a | 30,330 | 18,000 | 16,074 | 1,926
| WAI | n/a | 21,980 | 12,500 | 11,163 | 1,338
Skates | BSAI | 49,063 | 41,144 | 26,000 | 22,100 | 0
Sculpins | BSAI | 56,582 | 42,387 | 4,500 | 3,825 | 0
Sharks | BSAI | 689 | 517 | 125 | 106 | 0
Squids | BSAI | 6,912 | 5,184 | 1,342 | 1,141 | 0
Octopuses | BSAI | 4,769 | 3,576 | 400 | 340 | 0
Total |  | 5,110,344 | 4,013,993 | 2,000,000 | 1,791,566 | 197,031
¹ These amounts apply to the entire BSAI management area unless otherwise specified. With the exception of pollock, and for the purpose of these harvest specifications, the Bering Sea (BS) subarea includes the Bogoslof District.
² Except for pollock, the portion of the sablefish TAC allocated to hook-and-line or pot gear, and Amendment 80 species, 15 percent of each TAC is put into a reserve. The ITAC for these species is the remainder of the TAC after the subtraction of these reserves. For pollock and Amendment 80 species, ITAC is the non-CDQ allocation of TAC (see footnotes 3 and 5).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, northern rockfish, shortraker rockfish, rougheye rockfish, “other rockfish,” skates, sculpins, sharks, squids, and octopuses are not allocated to the CDQ program.
⁴ Under § 679.20(a)(5)(i)(A), the annual BS subarea pollock TAC, after subtracting first for the CDQ directed fishing allowance (10 percent) and second for the incidental catch allowance (3.9 percent), is further allocated by sector for a pollock directed fishery as follows: inshore—50 percent; catcher/processor—40 percent; and motherships—10 percent. Under § 679.20(a)(5)(iii)(B)(2), the annual Aleutian Islands subarea pollock TAC, after subtracting first for the CDQ directed fishing allowance (10 percent) and second for the incidental catch allowance (2,400 mt), is allocated to the Aleut Corporation for a pollock directed fishery.
⁵ The BS Pacific cod TAC is set less than 6.4 percent of the Bering Sea subarea ABC to account for the State of Alaska's (State) guideline harvest level in State waters of the Bering Sea subarea. The AI Pacific cod TAC is set less than 27 percent of the Aleutian Islands subarea ABC to account for the State guideline harvest level in State waters of the Aleutian Islands subarea.
⁶ “Flathead sole” includes Hippoglossoides elassodon (flathead sole) and Hippoglossoides robustus (Bering flounder).
⁷ “Other flatfish” includes all flatfish species, except for halibut (a prohibited species), flathead sole, Greenland turbot, rock sole, yellowfin sole, arrowtooth flounder, Kamchatka flounder, and Alaska plaice.
⁸ “Rougheye rockfish” includes Sebastes aleutianus (rougheye) and Sebastes melanostictus (blackspotted).
⁹ “Other rockfish” includes all Sebastes and Sebastolobus species except for Pacific ocean perch, northern rockfish, shortraker rockfish, and rougheye rockfish.
Note: Regulatory areas and districts are defined at § 679.2 (BSAI = Bering Sea and Aleutian Islands Management Area, BS = Bering Sea subarea, AI = Aleutian Islands subarea, EAI = Eastern Aleutian district, CAI = Central Aleutian district, WAI = Western Aleutian district.)

Table 1A—Comparison of Final 2017 and 2018 With Proposed 2017 and 2018 Total Allowable Catch in the BSAI
[Amounts are in metric tons]
Species | Area ¹ | 2017 final TAC | 2017 proposed TAC | 2017 difference from proposed | 2017 percentage difference from proposed | 2018 final TAC | 2018 proposed TAC | 2018 difference from proposed | 2018 percentage difference from proposed
Pollock | BS | 1,345,000 | 1,340,643 | 4,357 | 0.3 | 1,345,000 | 1,340,643 | 4,357 | 0.3
| AI | 19,000 | 19,000 | 0 | 0.0 | 19,000 | 19,000 | 0 | 0.0
| Bogoslof | 500 | 500 | 0 | 0.0 | 500 | 500 | 0 | 0.0
Pacific cod | BS | 223,704 | 238,680 | −14,976 | −6.3 | 223,704 | 238,680 | −14,976 | −6.3
| AI | 15,695 | 12,839 | 2,856 | 22.2 | 15,695 | 12,839 | 2,856 | 22.2
Sablefish | BS | 1,274 | 1,052 | 222 | 21.1 | 1,274 | 1,052 | 222 | 21.1
| AI | 1,735 | 1,423 | 312 | 21.9 | 1,735 | 1,423 | 312 | 21.9
Yellowfin sole | BSAI | 154,000 | 144,000 | 10,000 | 6.9 | 154,000 | 144,000 | 10,000 | 6.9
Greenland turbot | BS | 4,375 | 2,673 | 1,702 | 63.7 | 4,375 | 2,673 | 1,702 | 63.7
| AI | 125 | 200 | −75 | −37.5 | 125 | 200 | −75 | −37.5
Arrowtooth flounder | BSAI | 14,000 | 14,000 | 0 | 0.0 | 14,000 | 14,000 | 0 | 0.0
Kamchatka flounder | BSAI | 5,000 | 5,000 | 0 | 0.0 | 5,000 | 5,000 | 0 | 0.0
Rock sole | BSAI | 47,100 | 57,100 | −10,000 | −17.5 | 47,100 | 57,100 | −10,000 | −17.5
Flathead sole | BSAI | 14,500 | 21,000 | −6,500 | −31.0 | 14,500 | 21,000 | −6,500 | −31.0
Alaska plaice | BSAI | 13,000 | 14,500 | −1,500 | −10.3 | 13,000 | 14,500 | −1,500 | −10.3
Other flatfish | BSAI | 2,500 | 2,500 | 0 | 0.0 | 2,500 | 2,500 | 0 | 0.0
Pacific ocean perch | BS | 11,000 | 7,953 | 3,047 | 38.3 | 11,000 | 7,953 | 3,047 | 38.3
| EAI | 7,900 | 7,537 | 363 | 4.8 | 7,900 | 7,537 | 363 | 4.8
| CAI | 7,000 | 7,000 | 0 | 0.0 | 7,000 | 7,000 | 0 | 0.0
| WAI | 9,000 | 9,000 | 0 | 0.0 | 9,000 | 9,000 | 0 | 0.0
Northern rockfish | BSAI | 5,000 | 4,500 | 500 | 11.1 | 5,000 | 4,500 | 500 | 11.1
Blackspotted and Rougheye rockfish | BS/EAI | 100 | 100 | 0 | 0.0 | 100 | 100 | 0 | 0.0
| CAI/WAI | 125 | 200 | −75 | −37.5 | 125 | 200 | −75 | −37.5
Shortraker rockfish | BSAI | 125 | 200 | −75 | −37.5 | 125 | 200 | −75 | −37.5
Other rockfish | BS | 325 | 325 | 0 | 0.0 | 325 | 325 | 0 | 0.0
| AI | 550 | 550 | 0 | 0.0 | 550 | 550 | 0 | 0.0
Atka mackerel | EAI/BS | 34,500 | 28,500 | 6,000 | 21.1 | 34,000 | 28,500 | 5,500 | 19.3
| CAI | 18,000 | 16,000 | 2,000 | 12.5 | 18,500 | 16,000 | 2,500 | 15.6
| WAI | 12,500 | 10,500 | 2,000 | 19.0 | 12,500 | 10,500 | 2,000 | 19.0
Skates | BSAI | 26,000 | 26,000 | 0 | 0.0 | 26,000 | 26,000 | 0 | 0.0
Sculpins | BSAI | 4,500 | 4,500 | 0 | 0.0 | 4,500 | 4,500 | 0 | 0.0
Sharks | BSAI | 125 | 125 | 0 | 0.0 | 125 | 125 | 0 | 0.0
Squid | BSAI | 1,342 | 1,500 | −158 | −10.5 | 1,342 | 1,500 | −158 | −10.5
Octopuses | BSAI | 400 | 400 | 0 | 0.0 | 400 | 400 | 0 | 0.0
Total | BSAI | 2,000,000 | 2,000,000 | 0 | 0.0 | 2,000,000 | 2,000,000 | 0 | 0.0
¹ Bering Sea subarea (BS), Aleutian Islands subarea (AI), Bering Sea and Aleutian Islands management area (BSAI), Eastern Aleutian District (EAI), Central Aleutian District (CAI), and Western Aleutian District (WAI).

Table 2—Final 2018 Overfishing Level (OFL), Acceptable Biological Catch (ABC), Total Allowable Catch (TAC), Initial TAC (ITAC), and CDQ Reserve Allocation of Groundfish in the BSAI ¹
[Amounts are in metric tons]
Species | Area | 2018: OFL | 2018: ABC | 2018: TAC | 2018: ITAC ² | 2018: CDQ ³
Pollock ⁴ | BS | 4,360,000 | 2,979,000 | 1,345,000 | 1,210,500 | 134,500
| AI | 49,291 | 40,788 | 19,000 | 17,100 | 1,900
| Bogoslof | 130,428 | 97,428 | 500 | 500 | 0
Pacific cod ⁵ | BS | 302,000 | 255,000 | 223,704 | 199,768 | 23,936
| AI | 28,700 | 21,500 | 15,695 | 14,016 | 1,679
Sablefish | BS | 1,519 | 1,291 | 1,274 | 541 | 48
| AI | 2,072 | 1,758 | 1,735 | 369 | 33
Yellowfin sole | BSAI | 276,000 | 250,800 | 154,000 | 137,522 | 16,478
Greenland turbot | BSAI | 12,831 | 10,864 | 4,500 | 3,825 | n/a
| BS | n/a | 9,484 | 4,375 | 3,719 | 468
| AI | n/a | 1,380 | 125 | 106 | 0
Arrowtooth flounder | BSAI | 67,023 | 58,633 | 14,000 | 11,900 | 1,498
Kamchatka flounder | BSAI | 10,700 | 9,200 | 5,000 | 4,250 | 0
Rock sole | BSAI | 147,300 | 143,100 | 47,100 | 42,060 | 5,040
Flathead sole ⁶ | BSAI | 79,136 | 66,164 | 14,500 | 12,949 | 1,552
Alaska plaice | BSAI | 36,900 | 32,100 | 13,000 | 11,050 | 0
Other flatfish ⁷ | BSAI | 17,591 | 13,193 | 2,500 | 2,125 | 0
Pacific ocean perch | BSAI | 51,950 | 42,735 | 34,900 | 30,693 | n/a
| BS | n/a | 11,924 | 11,000 | 9,350 | 0
| EAI | n/a | 10,074 | 7,900 | 7,055 | 845
| CAI | n/a | 7,828 | 7,000 | 6,251 | 749
| WAI | n/a | 12,909 | 9,000 | 8,037 | 963
Northern rockfish | BSAI | 15,854 | 12,947 | 5,000 | 4,250 | 0
Blackspotted and Rougheye rockfish ⁸ | BSAI | 750 | 614 | 225 | 191 | 0
| EBS/EAI | n/a | 374 | 100 | 85 | 0
| CAI/WAI | n/a | 240 | 125 | 106 | 0
Shortraker rockfish | BSAI | 666 | 499 | 125 | 106 | 0
Other rockfish ⁹ | BSAI | 1,816 | 1,362 | 875 | 744 | 0
| BS | n/a | 791 | 325 | 276 | 0
| AI | n/a | 571 | 550 | 468 | 0
Atka mackerel | BSAI | 99,900 | 85,000 | 65,000 | 58,045 | 6,955
| EAI/BS | n/a | 34,000 | 34,000 | 30,362 | 3,638
| CAI | n/a | 29,600 | 18,500 | 16,521 | 1,980
| WAI | n/a | 21,400 | 12,500 | 11,163 | 1,338
Skates | BSAI | 46,583 | 39,008 | 26,000 | 22,100 | 0
Sculpins | BSAI | 56,582 | 42,387 | 4,500 | 3,825 | 0
Sharks | BSAI | 689 | 517 | 125 | 106 | 0
Squids | BSAI | 6,912 | 5,184 | 1,342 | 1,141 | 0
Octopuses | BSAI | 4,769 | 3,576 | 400 | 340 | 0
Total |  | 5,807,962 | 4,214,648 | 2,000,000 | 1,790,015 | 196,644
¹ These amounts apply to the entire BSAI management area unless otherwise specified. With the exception of pollock, and for the purpose of these harvest specifications, the Bering Sea (BS) subarea includes the Bogoslof District.
² Except for pollock, the portion of the sablefish TAC allocated to hook-and-line or pot gear, and Amendment 80 species, 15 percent of each TAC is put into a reserve. The ITAC for these species is the remainder of the TAC after the subtraction of these reserves. For pollock and Amendment 80 species, ITAC is the non-CDQ allocation of TAC (see footnotes 3 and 5).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, northern rockfish, shortraker rockfish, rougheye rockfish, “other rockfish,” skates, sculpins, sharks, squids, and octopuses are not allocated to the CDQ program.
⁴ Under § 679.20(a)(5)(i)(A), the annual BS subarea pollock TAC, after subtracting first for the CDQ directed fishing allowance (10 percent) and second for the incidental catch allowance (3.9 percent), is further allocated by sector for a pollock directed fishery as follows: Inshore—50 percent; catcher/processor—40 percent; and motherships—10 percent. Under § 679.20(a)(5)(iii)(B)(2), the annual Aleutian Islands subarea pollock TAC, after subtracting first for the CDQ directed fishing allowance (10 percent) and second for the incidental catch allowance (2,400 mt), is allocated to the Aleut Corporation for a pollock directed fishery.
⁵ The BS Pacific cod TAC is set less than 6.4 percent of the Bering Sea subarea ABC to account for the State of Alaska's (State) guideline harvest level in State waters of the Bering Sea subarea. The AI Pacific cod TAC is set less than 27 percent of the Aleutian Island subarea ABC to account for the State guideline harvest level in State waters of the Aleutian Islands subarea.
⁶ “Flathead sole” includes Hippoglossoides elassodon (flathead sole) and Hippoglossoides robustus (Bering flounder).
⁷ “Other flatfish” includes all flatfish species, except for halibut (a prohibited species), flathead sole, Greenland turbot, rock sole, yellowfin sole, arrowtooth flounder, Kamchatka flounder, and Alaska plaice.
⁸ “Rougheye rockfish” includes Sebastes aleutianus (rougheye) and Sebastes melanostictus (blackspotted).
⁹ “Other rockfish” includes all Sebastes and Sebastolobus species except for Pacific ocean perch, northern rockfish, shortraker rockfish, and rougheye rockfish.
Note: Regulatory areas and districts are defined at § 679.2 (BSAI = Bering Sea and Aleutian Islands management area, BS = Bering Sea subarea, AI = Aleutian Islands subarea, EAI = Eastern Aleutian district, CAI = Central Aleutian district, WAI = Western Aleutian district.)

Groundfish Reserves and the Incidental Catch Allowance (ICA) for Pollock, Atka Mackerel, Flathead Sole, Rock Sole, Yellowfin Sole, and Aleutian Islands Pacific Ocean Perch

Section 679.20(b)(1)(i) requires NMFS to reserve 15 percent of the TAC for each target species, except for pollock, hook-and-line or pot gear allocation of sablefish, and Amendment 80 species, in a non-specified reserve. Section 679.20(b)(1)(ii)(B) requires that NMFS allocate 20 percent of the hook-and-line or pot gear allocation of sablefish for the fixed-gear sablefish CDQ reserve. Section 679.20(b)(1)(ii)(D) requires that NMFS allocate 7.5 percent of the trawl gear allocations of sablefish and 10.7 percent of the Bering Sea Greenland turbot and arrowtooth flounder TACs to the respective CDQ reserves. Section 679.20(b)(1)(ii)(C) requires that NMFS allocate 10.7 percent of the TAC for Atka mackerel, Aleutian Islands Pacific ocean perch, yellowfin sole, rock sole, flathead sole, and Pacific cod to the CDQ reserves. Sections 679.20(a)(5)(i)(A) and 679.31(a) also require that 10 percent of the Bering Sea pollock TACs be allocated to the pollock CDQ directed fishing allowance (DFA). The entire Bogoslof District pollock TAC is allocated as an ICA pursuant to § 679.20(a)(5)(ii) because the Bogoslof District is closed to directed fishing for pollock by regulation. With the exception of the hook-and-line or pot gear sablefish CDQ reserve, the regulations do not further apportion the CDQ allocations by gear.

Pursuant to § 679.20(a)(5)(i)(A)(1), NMFS allocates a pollock ICA of 3.9 percent of the Bering Sea subarea pollock TAC after subtracting the 10 percent CDQ reserve. This allowance is based on NMFS' examination of the pollock incidental catch, including the incidental catch by CDQ vessels, in target fisheries other than pollock from 2000 through 2016. During this 17-year period, the pollock incidental catch ranged from a low of 2.4 percent in 2006 to a high of 4.8 percent in 2014, with a 17-year average of 3.2 percent. Pursuant to § 679.20(a)(5)(iii)(B)(2)(i) and (ii), NMFS establishes a pollock ICA of 2,400 mt of the Aleutian Islands subarea TAC after subtracting the 10-percent CDQ DFA. This allowance is based on NMFS' examination of the pollock incidental catch, including the incidental catch by CDQ vessels, in target fisheries other than pollock from 2003 through 2016. During this 14-year period, the incidental catch of pollock ranged from a low of 5 percent in 2006 to a high of 17 percent in 2014, with a 14-year average of 8 percent.

Pursuant to § 679.20(a)(8) and (10), NMFS allocates ICAs of 4,000 mt of flathead sole, 5,000 mt of rock sole, 4,500 mt of yellowfin sole, 10 mt of Western Aleutian Islands (WAI) Pacific ocean perch, 60 mt of Central Aleutian Islands (CAI) Pacific ocean perch, 100 mt of Eastern Aleutian Islands (EAI) Pacific ocean perch, 20 mt of WAI Atka mackerel, 75 mt of CAI Atka mackerel, and 1,000 mt of EAI and Bering Sea subarea Atka mackerel TAC after subtracting the 10.7 percent CDQ reserve. These ICA allowances are based on NMFS' examination of the incidental catch in other target fisheries from 2003 through 2016.

The regulations do not designate the remainder of the non-specified reserve by species or species group. Any amount of the reserve may be apportioned to a target species category that contributed to the non-specified reserves during the year, provided that such apportionments are consistent with § 679.20(a)(3) and do not result in overfishing (see § 679.20(b)(1)(i)). The Regional Administrator has determined that the ITACs specified for the species listed in Table 1 need to be supplemented from the non-specified reserve because U.S. fishing vessels have demonstrated the capacity to catch the full TAC allocations. Therefore, in accordance with § 679.20(b)(3), NMFS is apportioning the amounts shown in Table 3 from the non-specified reserve to increase the ITAC for shortraker rockfish, rougheye rockfish, “other rockfish,” sharks, and octopuses by 15 percent of the TAC in 2017 and 2018.

Table 3—Final 2017 and 2018 Apportionment of Reserves To ITAC Categories
[Amounts are in metric tons]
Species-area or subarea | 2017 ITAC | 2017 reserve amount | 2017 final ITAC | 2018 ITAC | 2018 reserve amount | 2018 final ITAC
Shortraker rockfish—BSAI | 106 | 19 | 125 | 106 | 19 | 125
Rougheye rockfish—BS/EAI | 85 | 15 | 100 | 85 | 15 | 100
Rougheye rockfish—CAI/WAI | 106 | 19 | 125 | 106 | 19 | 125
Other rockfish—Bering Sea subarea | 276 | 49 | 325 | 276 | 49 | 325
Other rockfish—Aleutian Islands subarea | 468 | 82 | 550 | 468 | 82 | 550
Sharks | 106 | 19 | 125 | 106 | 19 | 125
Octopuses | 340 | 60 | 400 | 340 | 60 | 400
Total | 1,487 | 263 | 1,750 | 1,487 | 263 | 1,750

Allocation of Pollock TAC Under the American Fisheries Act (AFA)

Section 679.20(a)(5)(i)(A) requires that the Bering Sea subarea pollock TAC be apportioned, after subtracting 10 percent for the CDQ program and 3.9 percent for the ICA, as a DFA as follows: 50 Percent to the inshore sector, 40 percent to the catcher/processor (C/P) sector, and 10 percent to the mothership sector. In the Bering Sea subarea, 45 percent of the DFA is allocated to the A season (January 20-June 10), and 55 percent of the DFA is allocated to the B season (June 10-November 1) (§§ 679.20(a)(5)(i)(B)(1) and 679.23(e)(2)). The Aleutian Islands directed pollock fishery allocation to the Aleut Corporation is the amount of pollock remaining in the Aleutian Islands subarea after subtracting 1,900 mt for the CDQ DFA (10 percent) and 2,400 mt for the ICA (§ 679.20(a)(5)(iii)(B)(2)). In the Aleutian Islands subarea, the total A season apportionment of the TAC is less than or equal to 40 percent of the ABC and the remainder of the TAC is allocated to the B season (§ 679.20(a)(5)(iii)(B)(3)). Tables 4 and 5 list these 2017 and 2018 amounts.

The Steller sea lion protection measure final rule (79 FR 70286, November 25, 2014) sets harvest limits for pollock in the A season (January 20 to June 10) in Areas 543, 542, and 541 (see § 679.20(a)(5)(iii)(B)(6)). In Area 543, the A season pollock harvest limit is no more than 5 percent of the Aleutian Islands pollock ABC. In Area 542, the A season pollock harvest limit is no more than 15 percent of the Aleutian Islands ABC. In Area 541, the A season pollock harvest limit is no more than 30 percent of the Aleutian Islands ABC.

Section 679.20(a)(5)(i)(A)(4) also includes several specific requirements regarding Bering Sea subarea pollock allocations. First, it requires that 8.5 percent of the pollock allocated to the C/P sector be available for harvest by AFA catcher vessels (CVs) with C/P sector endorsements, unless the Regional Administrator receives a cooperative contract that allows the distribution of harvest among AFA C/Ps and AFA CVs in a manner agreed to by all members. Second, AFA C/Ps not listed in the AFA are limited to harvesting not more than 0.5 percent of the pollock allocated to the C/P sector. Tables 4 and 5 list the 2017 and 2018 allocations of pollock TAC. Tables 21 through 26 list the AFA C/P and CV harvesting sideboard limits. The tables for the pollock allocations to the Bering Sea subarea inshore pollock cooperatives and open access sector will be posted on the Alaska Region Web site at http://alaskafisheries.noaa.gov.

Tables 4 and 5 also list seasonal apportionments of pollock and harvest limits within the Steller Sea Lion Conservation Area (SCA). The harvest within the SCA, as defined at § 679.22(a)(7)(vii), is limited to no more than 28 percent of the annual DFA before 12:00 noon, April 1, as provided in § 679.20(a)(5)(i)(C). The A season pollock SCA harvest limit will be apportioned to each sector in proportion to each sector's allocated percentage of the DFA. Tables 4 and 5 list these 2017 and 2018 amounts by sector.

Table 4—Final 2017 Allocations of Pollock TACS to the Directed Pollock Fisheries and to the CDQ Directed Fishing Allowances (DFA) ¹
[Amounts are in metric tons]
Area and sector | 2017 allocations | 2017 A season ¹: A season DFA | 2017 A season ¹: SCA harvest limit ² | 2017 B season ¹: B season DFA
Bering Sea subarea TAC ¹ | 1,345,000 | n/a | n/a | n/a
CDQ DFA | 134,500 | 60,525 | 37,660 | 73,975
ICA ¹ | 47,210 | n/a | n/a | n/a
Total Bering Sea non-CDQ DFA | 1,163,291 | 523,481 | 325,721 | 639,810
AFA Inshore | 581,645 | 261,740 | 162,861 | 319,905
AFA Catcher/Processors ³ | 465,316 | 209,392 | 130,289 | 255,924
Catch by C/Ps | 425,764 | 191,594 | n/a | 234,170
Catch by CVs ³ | 39,552 | 17,798 | n/a | 21,754
Unlisted C/P Limit ⁴ | 2,327 | 1,047 | n/a | 1,280
AFA Motherships | 116,329 | 52,348 | 32,572 | 63,981
Excessive Harvesting Limit ⁵ | 203,576 | n/a | n/a | n/a
Excessive Processing Limit ⁶ | 348,987 | n/a | n/a | n/a
Aleutian Islands subarea ABC | 36,061 | n/a | n/a | n/a
Aleutian Islands subarea TAC ¹ | 19,000 | n/a | n/a | n/a
CDQ DFA | 1,900 | 760 | n/a | 1,140
ICA | 2,400 | 1,200 | n/a | 1,200
Aleut Corporation | 14,700 | 12,464 | n/a | 2,236
Area harvest limit ⁷ 541 | 10,818 | n/a | n/a | n/a
542 | 5,409 | n/a | n/a | n/a
543 | 1,803 | n/a | n/a | n/a
Bogoslof District ICA ⁸ | 500 | n/a | n/a | n/a
¹ Pursuant to § 679.20(a)(5)(i)(A), the Bering Sea subarea pollock, after subtracting the CDQ DFA (10 percent) and the ICA (3.9 percent), is allocated as a DFA as follows: Inshore sector—50 percent, catcher/processor sector (C/P)—40 percent, and mothership sector—10 percent. In the Bering Sea subarea, 45 percent of the DFA is allocated to the A season (January 20-June 10) and 55 percent of the DFA is allocated to the B season (June 10-November 1). Pursuant to § 679.20(a)(5)(iii)(B)(2), the annual Aleutian Islands pollock TAC, after subtracting first for the CDQ directed fishing allowance (10 percent) and second the ICA (2,400 mt), is allocated to the Aleut Corporation for a pollock directed fishery. In the Aleutian Islands subarea, the A season is allocated less than or equal to 40 percent of the ABC and the B season is allocated the remainder of the pollock directed fishery.
² In the Bering Sea subarea, pursuant to § 679.20(a)(5)(i)(C), no more than 28 percent of each sector's annual DFA may be taken from the SCA before April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ The Bogoslof District is closed by the final harvest specifications to directed fishing for pollock. The amounts specified are for ICA only and are not apportioned by season or sector.
Note: Seasonal or sector apportionments may not total precisely due to rounding.

Table 5—Final 2018 Allocations of Pollock TACS to the Directed Pollock Fisheries and to the CDQ Directed Fishing Allowances (DFA) ¹
[Amounts are in metric tons]
Area and sector | 2018 allocations | 2018 A season ¹: A season DFA | 2018 A season ¹: SCA harvest limit ² | 2018 B season ¹: B season DFA
Bering Sea subarea TAC ¹ | 1,345,000 | n/a | n/a | n/a
CDQ DFA | 134,500 | 60,525 | 37,660 | 73,975
ICA ¹ | 47,210 | n/a | n/a | n/a
Total Bering Sea non-CDQ DFA | 1,163,291 | 523,481 | 325,721 | 639,810
AFA Inshore | 581,645 | 261,740 | 162,861 | 319,905
AFA Catcher/Processors ³ | 465,316 | 209,392 | 130,289 | 255,924
Catch by C/Ps | 425,764 | 191,594 | n/a | 234,170
Catch by CVs ³ | 39,552 | 17,798 | n/a | 21,754
Unlisted C/P Limit ⁴ | 2,327 | 1,047 | n/a | 1,280
AFA Motherships | 116,329 | 52,348 | 32,572 | 63,981
Excessive Harvesting Limit ⁵ | 203,576 | n/a | n/a | n/a
Excessive Processing Limit ⁶ | 348,987 | n/a | n/a | n/a
Aleutian Islands subarea ABC | 40,788 | n/a | n/a | n/a
Aleutian Islands subarea TAC ¹ | 19,000 | n/a | n/a | n/a
CDQ DFA | 1,900 | 760 | n/a | 1,140
ICA | 2,400 | 1,200 | n/a | 1,200
Aleut Corporation | 14,700 | 14,355 | n/a | 345
Area harvest limit ⁷ 541 | 12,236 | n/a | n/a | n/a
542 | 6,118 | n/a | n/a | n/a
543 | 2,039 | n/a | n/a | n/a
Bogoslof District ICA ⁸ | 500 | n/a | n/a | n/a
¹ Pursuant to § 679.20(a)(5)(i)(A), the Bering Sea subarea pollock, after subtracting the CDQ DFA (10 percent) and the ICA (3.9 percent), is allocated as a DFA as follows: Inshore sector—50 percent, catcher/processor sector (C/P)—40 percent, and mothership sector—10 percent. In the Bering Sea subarea, 45 percent of the DFA is allocated to the A season (January 20-June 10) and 55 percent of the DFA is allocated to the B season (June 10-November 1). Pursuant to § 679.20(a)(5)(iii)(B)(2), the annual Aleutian Islands pollock TAC, after subtracting first for the CDQ directed fishing allowance (10 percent) and second the ICA (2,400 mt), is allocated to the Aleut Corporation for a pollock directed fishery. In the Aleutian Islands subarea, the A season is allocated less than or equal to 40 percent of the ABC and the B season is allocated the remainder of the pollock directed fishery.
² In the Bering Sea subarea, pursuant to § 679.20(a)(5)(i)(C), no more than 28 percent of each sector's annual DFA may be taken from the SCA before April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ The Bogoslof District is closed by the final harvest specifications to directed fishing for pollock. The amounts specified are for ICA only and are not apportioned by season or sector.
Note: Seasonal or sector apportionments may not total precisely due to rounding.

Allocation of the Atka Mackerel TACs

Section 679.20(a)(8) allocates the Atka mackerel TACs to the Amendment 80 and BSAI trawl limited access sectors, after subtracting the CDQ reserves, jig gear allocation, and ICAs for the BSAI trawl limited access sector and non-trawl gear sector (Tables 6 and 7). The percentage of the ITAC for Atka mackerel allocated to the Amendment 80 and BSAI trawl limited access sectors is listed in Table 33 to 50 CFR part 679 and in § 679.91. Pursuant to § 679.20(a)(8)(i), up to 2 percent of the EAI and the Bering Sea subarea Atka mackerel ITAC may be allocated to vessels using jig gear. The percent of this allocation is recommended annually by the Council based on several criteria, including, among other criteria, the anticipated harvest capacity of the jig gear fleet. The Council recommended, and NMFS approves, a 0.5 percent allocation of the Atka mackerel ITAC in the EAI and Bering Sea subarea to the jig gear sector in 2017 and 2018. This percentage is applied to the Atka mackerel TAC after subtracting the CDQ reserve and the ICA.

Section 679.20(a)(8)(ii)(A) apportions the Atka mackerel TAC into two equal seasonal allowances. Section 679.23(e)(3) sets the first seasonal allowance for directed fishing with trawl gear from January 20 through June 10 (A season), and the second seasonal allowance from June 10 through December 31 (B season). Section 679.23(e)(4)(iii) applies Atka mackerel seasons to CDQ Atka mackerel trawl fishing. The ICA and jig gear allocations are not apportioned by season.

Sections 679.20(a)(8)(ii)(C)(1)(i) and (ii) limit Atka mackerel catch within waters 0 nm to 20 nm of Steller sea lion sites listed in Table 6 to 50 CFR part 679 and located west of 178° W longitude to no more than 60 percent of the annual TACs in Areas 542 and 543, and equally divide the annual TAC between the A and B seasons as defined at § 679.23(e)(3). Section 679.20(a)(8)(ii)(C)(2) requires that the annual TAC in Area 543 will be no more than 65 percent of the ABC in Area 543. Section 679.20(a)(8)(ii)(D) requires that any unharvested Atka mackerel A season allowance that is added to the B season be prohibited from being harvested within waters 0 nm to 20 nm of Steller sea lion sites listed in Table 6 to 50 CFR part 679 and located in Areas 541, 542, and 543.

Tables 6 and 7 list these 2017 and 2018 Atka mackerel seasons, area allowances, and the sector allocations. The 2018 allocations for Atka mackerel between Amendment 80 cooperatives and the Amendment 80 limited access sector will not be known until eligible participants apply for participation in the program by November 1, 2017.

Table 6—Final 2017 Seasonal and Spatial Allowances, Gear Shares, CDQ Reserve, Incidental Catch Allowance, and Amendment 80 Allocations of the BSAI ATKA Mackerel TAC
[Amounts are in metric tons]
Sector ¹ | Season ² ³ ⁴ | 2017 allocation by area: Eastern Aleutian District/Bering Sea | 2017 allocation by area: Central Aleutian District ⁵ | 2017 allocation by area: Western Aleutian District
TAC | n/a | 34,500 | 18,000 | 12,500
CDQ reserve | Total | 3,692 | 1,926 | 1,338
| A | 1,846 | 963 | 669
| Critical Habitat | n/a | 578 | 401
| B | 1,846 | 963 | 669
| Critical Habitat | n/a | 578 | 401
Non-CDQ TAC | n/a | 30,809 | 16,074 | 11,163
ICA | Total | 1,000 | 75 | 20
Jig ⁶ | Total | 149 | 0 | 0
BSAI trawl limited access | Total | 2,966 | 1,600 | 0
| A | 1,483 | 800 | 0
| Critical Habitat | n/a | 480 | 0
| B | 1,483 | 800 | 0
| Critical Habitat | n/a | 480 | 0
Amendment 80 sectors | Total | 26,694 | 14,399 | 11,143
| A | 13,347 | 7,200 | 5,571
| B | 13,347 | 7,200 | 5,571
Alaska Groundfish Cooperative | Total ⁶ | 15,096 | 8,552 | 6,853
| A | 7,548 | 4,276 | 3,427
| Critical Habitat | n/a | 2,566 | 2,056
| B | 7,548 | 4,276 | 3,427
| Critical Habitat | n/a | 2,566 | 2,056
Alaska Seafood Cooperative | Total ⁶ | 11,598 | 5,847 | 4,290
| A | 5,799 | 2,924 | 2,145
| Critical Habitat | n/a | 1,754 | 1,287
| B | 5,799 | 2,924 | 2,145
| Critical Habitat | n/a | 1,754 | 1,287
¹ Section 679.20(a)(8)(ii) allocates the Atka mackerel TACs, after subtracting the CDQ reserves, jig gear allocation, and ICAs, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of critical habitat; section 679.20(a)(8)(ii)(C)(1)(ii) equally divides the annual TACs between the A and B seasons as defined at § 679.23(e)(3); and section 679.20(a)(8)(ii)(C)(2) requires the TAC in Area 543 shall be no more than 65 percent of ABC.
⁶ Section 679.20(a)(8)(i) requires that up to 2 percent of the Eastern Aleutian District and the Bering Sea subarea TAC be allocated to jig gear after subtracting the CDQ reserve and ICA. The amount of this allocation is 0.5 percent. The jig gear allocation is not apportioned by season.
Note: Seasonal or sector apportionments may not total precisely due to rounding.

Table 7—Final 2018 Seasonal and Spatial Allowances, Gear Shares, CDQ Reserve, Incidental Catch Allowance, and Amendment 80 Allocation of the BSAI ATKA Mackerel TAC
[Amounts are in metric tons]
Sector ¹ | Season ² ³ ⁴ | 2018 allocation by area: Eastern Aleutian District/Bering Sea ⁵ | 2018 allocation by area: Central Aleutian District ⁵ | 2018 allocation by area: Western Aleutian District ⁵
TAC | n/a | 34,000 | 18,500 | 12,500
CDQ reserve | Total | 3,638 | 1,980 | 1,338
| A | 1,819 | 990 | 669
| Critical Habitat | n/a | 594 | 401
| B | 1,819 | 990 | 669
| Critical Habitat | n/a | 594 | 401
non-CDQ TAC | n/a | 30,362 | 16,521 | 11,163
ICA | Total | 1,000 | 75 | 20
Jig ⁶ | Total | 147 | 0 | 0
BSAI trawl limited access | Total | 2,922 | 1,645 | 0
| A | 1,461 | 822 | 0
| Critical Habitat | n/a | 493 | 0
| B | 1,461 | 822 | 0
| Critical Habitat | n/a | 493 | 0
Amendment 80 sectors ⁷ | Total | 26,294 | 14,801 | 11,143
| A | 13,147 | 7,400 | 5,571
| B | 13,147 | 7,400 | 5,571
¹ Section 679.20(a)(8)(ii) allocates the Atka mackerel TACs, after subtracting the CDQ reserves, jig gear allocation, and ICAs, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1 )(i ) limits no more than 60 percent of the annual TACs in Areas 542 and 543 to be caught inside of critical habitat; section 679.20(a)(8)(ii)(C)(1 )(ii ) equally divides the annual TACs between the A and B seasons as defined at § 679.23(e)(3); and section 679.20(a)(8)(ii)(C)(2) requires the TAC in Area 543 shall be no more than 65 percent of ABC.
⁶ Section 679.20(a)(8)(i) requires that up to 2 percent of the Eastern Aleutian District and the Bering Sea subarea TAC be allocated to jig gear after subtracting the CDQ reserve and ICA. The amount of this allocation is 0.5 percent. The jig gear allocation is not apportioned by season.
⁷ The 2018 allocations for Atka mackerel between Amendment 80 cooperatives and the Amendment 80 limited access sector will not be known until eligible participants apply for participation in the program by November 1, 2017. NMFS will post 2018 Amendment 80 allocations when they become available in December 2017.
Note: Seasonal or sector apportionments may not total precisely due to rounding.

Allocation of the Pacific Cod TAC

The Council separated Bering Sea and Aleutian Islands subarea OFLs, ABCs, and TACs for Pacific cod in 2014 (79 FR 12108, March 4, 2014). Section 679.20(b)(1)(ii)(C) allocates 10.7 percent of the Bering Sea TAC and Aleutian Islands TAC to the CDQ program. After CDQ allocations have been deducted from the respective Bering Sea and Aleutian Islands Pacific cod TACs, the remaining Bering Sea and Aleutian Islands Pacific cod TACs are combined for calculating further BSAI Pacific cod sector allocations. However, if the non-CDQ Pacific cod TAC is or will be reached in either the Bering Sea or Aleutian Islands subareas, NMFS will prohibit non-CDQ directed fishing for Pacific cod in that subarea as provided in § 679.20(d)(1)(iii).

Sections 679.20(a)(7)(i) and (ii) allocate to the non-CDQ sectors the Pacific cod TAC in the combined BSAI TAC, after subtracting 10.7 percent for the CDQ program, as follows: 1.4 Percent to vessels using jig gear; 2.0 percent to hook-and-line or pot CVs less than 60 ft (18.3 m) length overall (LOA); 0.2 percent to hook-and-line CVs greater than or equal to 60 ft (18.3 m) LOA; 48.7 percent to hook-and-line C/P; 8.4 percent to pot CVs greater than or equal to 60 ft (18.3 m) LOA; 1.5 percent to pot C/Ps; 2.3 percent to AFA trawl C/Ps; 13.4 percent to Amendment 80 trawlC/Ps; and 22.1 percent to trawl CVs. The ICA for the hook-and-line and pot sectors will be deducted from the aggregate portion of Pacific cod TAC allocated to the hook-and-line and pot sectors. For 2017 and 2018, the Regional Administrator establishes an ICA of 500 mt based on anticipated incidental catch by these sectors in other fisheries.

The ITAC allocation of Pacific cod to the Amendment 80 sector is established in Table 33 to 50 CFR part 679 and § 679.91. The 2018 allocations for Amendment 80 species between Amendment 80 cooperatives and the Amendment 80 limited access sector will not be known until eligible participants apply for participation in the program by November 1, 2017.

The Pacific cod ITAC is apportioned into seasonal allowances to disperse the Pacific cod fisheries over the fishing year (see §§ 679.20(a)(7)(i)(B), (a)(7)(iv)(A), and 679.23(e)(5)). In accordance with § 679.20(a)(7)(iv)(B) and (C), any unused portion of a seasonal Pacific cod allowance for any sector, except the jig sector, will become available at the beginning of the next seasonal allowance.

Section 679.20(a)(7)(vii) requires the Regional Administrator to establish an Area 543 Pacific cod harvest limit based on Pacific cod abundance in Area 543. Based on the 2016 stock assessment, the Regional Administrator determined the Area 543 Pacific cod harvest limit to be 25.6 percent of the Aleutian Islands Pacific cod TAC for 2017 and 2018. NMFS will first subtract the State GHL Pacific cod amount from the Aleutian Islands Pacific cod ABC. Then NMFS will determine the harvest limit in Area 543 by multiplying the percentage of Pacific cod estimated in Area 543 by the remaining ABC for Aleutian Islands Pacific cod. Based on these calculations, the Area 543 harvest limit is 4,018 mt.

Section 679.20(a)(7)(viii) requires specification of the 2018 Pacific cod allocations for the Aleutian Islands ICA, DFA, CV Harvest Set-Aside, and Unrestricted Fishery, as well as the Bering Sea Trawl CV A-Season Sector Limitation. If NMFS receives notification of intent to process Aleutian Islands subarea Pacific Cod from either the city of Adak or the city of Atka, the harvest limits in Table 9a will be in effect in 2018. Notification of intent to process Aleutian Islands subarea Pacific cod must be postmarked by October 31, 2017, and submitted electronically to NMFS by October 31, 2017. In addition to the notification requirement, § 679.20(a)(7)(viii) also contains specific performance requirements that (1) if less than 1,000 mt of the Aleutian Islands CV Harvest Set-Aside is delivered to Aleutian Islands shoreplants by February 28, 2018, the Aleutian Islands CV Harvest Set-Aside is lifted and the Bering Sea Trawl CV A-Season Sector Limitation is suspended and (2) if the entire Aleutian Islands CV Harvest Set-Aside is fully harvested and delivered to Aleutian Islands shoreplants before March 15, 2018, the Bering Sea Trawl CV A-Season Sector Limitation is suspended.

The CDQ and non-CDQ seasonal allowances by gear based on the 2017 and 2018 Pacific cod TACs are listed in Tables 8 and 9, and are based on the sector allocation percentages and seasonal allowances for Pacific cod set forth at §§ 679.20(a)(7)(i)(B) and 679.20(a)(7)(iv)(A) and the seasons for Pacific cod set forth at § 679.23(e)(5).

Table 8—Final 2017 Gear Shares and Seasonal Allowances of the BSAI Pacific COD TAC
[Amounts are in metric tons]
Gear sector | Percent | 2017 share of gear sector total | 2017 share of sector total | 2017 seasonal apportionment: Seasons | 2017 seasonal apportionment: Amount
BS TAC | n/a | 223,704 | n/a | n/a | n/a
BS CDQ | n/a | 23,936 | n/a | see § 679.20(a)(7)(i)(B) | n/a
BS non-CDQ TAC | n/a | 199,768 | n/a | n/a | n/a
AI TAC | n/a | 15,695 | n/a | n/a | n/a
AI CDQ | n/a | 1,679 | n/a | see § 679.20(a)(7)(i)(B) | n/a
AI non-CDQ TAC | n/a | 14,016 | n/a | n/a | n/a
Western Aleutian Island Limit | n/a | 4,018 | n/a | n/a | n/a
Total BSAI non-CDQ TAC¹ | 100 | 213,783 | n/a | n/a | n/a
Total hook-and-line/pot gear | 60.8 | 129,980 | n/a | n/a | n/a
Hook-and-line/pot ICA ² | n/a | 500 | n/a | see § 679.20(a)(7)(ii)(B) | n/a
Hook-and-line/pot sub-total | n/a | 129,480 | n/a | n/a | n/a
Hook-and-line catcher/processor | 48.7 | n/a | 103,712 | Jan 1-Jun 10 | 52,893
|  |  |  | Jun 10-Dec 31 | 50,819
Hook-and-line catcher vessel > 60 ft LOA | 0.2 | n/a | 426 | Jan 1-Jun 10 | 217
|  |  |  | Jun 10-Dec 31 | 209
Pot catcher/processor | 1.5 | n/a | 3,194 | Jan 1-Jun 10 | 1,629
|  |  |  | Sept 1-Dec 31 | 1,565
Pot catcher vessel ≥ 60 ft LOA | 8.4 | n/a | 17,889 | Jan 1-Jun 10 | 9,123
|  |  |  | Sept 1-Dec 31 | 8,765
Catcher vessel < 60 ft LOA using hook-and-line or pot gear | 2 | n/a | 4,259 | n/a | n/a
Trawl catcher vessel | 22.1 | 47,246 | n/a | Jan 20-Apr 1 | 34,962
|  |  |  | Apr 1-Jun 10 | 5,197
|  |  |  | Jun 10-Nov 1 | 7,087
AFA trawl catcher/processor | 2.3 | 4,917 | n/a | Jan 20-Apr 1 | 3,688
|  |  |  | Apr 1-Jun 10 | 1,229
|  |  |  | Jun 10-Nov 1 | 0
Amendment 80 | 13.4 | 28,647 | n/a | Jan 20-Apr 1 | 21,485
|  |  |  | Apr 1-Jun 10 | 7,162
|  |  |  | Jun 10-Nov 1 | 0
Alaska Groundfish Cooperative | n/a | n/a | 4,522 | Jan 20-Apr 1 | 3,392
|  |  |  | Apr 1-Jun 10 | 1,131
|  |  |  | Jun 10-Dec 31 | 0
Alaska Seafood Cooperative | n/a | n/a | 24,125 | Jan 20-Apr 1 | 18,094
|  |  |  | Apr 1-Jun 10 | 6,031
|  |  |  | Jun 10-Dec 31 | 0
Jig | 1.4 | 2,993 | n/a | Jan 1-Apr 30 | 1,796
|  |  |  | Apr 30-Aug 31 | 599
|  |  |  | Aug 31-Dec 31 | 599
¹ The gear shares and seasonal allowances for BSAI Pacific cod TAC are based on the sum of the BS and AI Pacific cod TACs, after the subtraction of CDQ. If the TAC for Pacific cod in either the AI or BS is reached, then directed fishing for Pacific cod in that subarea may be prohibited, even if a BSAI allowance remains.
² The ICA for the hook-and-line and pot sectors will be deducted from the aggregate portion of Pacific cod TAC allocated to the hook-and-line and pot sectors. The Regional Administrator approves an ICA of 500 mt for 2017 based on anticipated incidental catch in these fisheries.
Note: Seasonal or sector apportionments may not total precisely due to rounding.

Table 9—Final 2018 Gear Shares and Seasonal Allowances of the BSAI Pacific COD TAC
[Amounts are in metric tons]
Gear sector | Percent | 2018 share of gear sector total | 2018 share of sector total | 2018 seasonal apportionment: Seasons | 2018 seasonal apportionment: Amount
BS TAC | n/a | 223,704 | n/a | n/a | n/a
BS CDQ | n/a | 23,936 | n/a | see § 679.20(a)(7)(i)(B) | n/a
BS non-CDQ TAC | n/a | 199,768 | n/a | n/a | n/a
AI TAC | n/a | 15,695 | n/a | n/a | n/a
AI CDQ | n/a | 1,679 | n/a | see § 679.20(a)(7)(i)(B) | n/a
AI non-CDQ TAC | n/a | 14,016 | n/a | n/a | n/a
Western Aleutian Island Limit | n/a | 4,018 | n/a | n/a | n/a
Total BSAI non-CDQ TAC ¹ | n/a | 213,783 | n/a | n/a | n/a
Total hook-and-line/pot gear | 60.8 | 129,980 | n/a | n/a | n/a
Hook-and-line/pot ICA ² | n/a | 500 | n/a | see § 679.20(a)(7)(ii)(B) | n/a
Hook-and-line/pot sub-total | n/a | 129,480 | n/a | n/a | n/a
Hook-and-line catcher/processor | 48.7 | n/a | 103,712 | Jan 1-Jun 10 | 52,893
|  |  |  | Jun 10-Dec 31 | 50,819
Hook-and-line catcher vessel ≥ 60 ft LOA | 0.2 | n/a | 426 | Jan 1-Jun 10 | 217
|  |  |  | Jun 10-Dec 31 | 209
Pot catcher/processor | 1.5 | n/a | 3,194 | Jan 1-Jun 10 | 1,629
|  |  |  | Sept 1-Dec 31 | 1,565
Pot catcher vessel > 60 ft LOA | 8.4 | n/a | 17,889 | Jan 1-Jun 10 | 9,123
|  |  |  | Sept 1-Dec 31 | 8,765
Catcher vessel < 60 ft LOA using hook-and-line or pot gear | 2 | n/a | 4,259 | n/a | n/a
Trawl catcher vessel | 22.1 | 47,246 | n/a | Jan 20-Apr 1 | 34,962
|  |  |  | Jun 10-Nov 1 | 7,087
AFA trawl catcher/processor | 2.3 | 4,917 | n/a | Jan 20-Apr 1 | 3,688
|  |  |  | Apr 1-Jun 10 | 1,229
|  |  |  | Jun 10-Nov 1 | 0
Amendment 80 | 13.4 | 28,647 | n/a | Jan 20-Apr 1 | 21,485
|  |  |  | Apr 1-Jun 10 | 7,162
|  |  |  | Jun 10-Dec 31 | 0
Jig | 1.4 | 2,993 | n/a | Jan 1-Apr 30 | 1,796
|  |  |  | Apr 30-Aug 31 | 599
|  |  |  | Aug 31-Dec 31 | 599
¹ The gear shares and seasonal allowances for BSAI Pacific cod TAC are based on the sum of the BS and AI Pacific cod TACs, after the subtraction of CDQ. If the TAC for Pacific cod in either the AI or BS is reached, then directed fishing for Pacific cod in that subarea may be prohibited, even if a BSAI allowance remains.
² The ICA for the hook-and-line and pot sectors will be deducted from the aggregate portion of Pacific cod TAC allocated to the hook-and-line and pot sectors. The Regional Administrator approves an ICA of 500 mt for 2018 based on anticipated incidental catch in these fisheries.
Note: Seasonal or sector apportionments may not total precisely due to rounding.

Table 9a—2018 BSAI A—Season Pacific Cod Limits if Aleutian Islands Shoreplants Intend To Process Pacific Cod ¹
2018 Allocations under Aleutian Islands CV Harvest Set-Aside | Amount (mt)
AI non-CDQ TAC | 14,016
AI ICA | 2,500
AI DFA | 11,516
BS non-CDQ TAC | 199,768
BSAI Trawl CV A-Season Allocation | 34,962
BSAI Trawl CV A-Season Allocation minus Sector Limitation ² | 29,962
BS Trawl CV A-Season Sector Limitation | 5,000
AI CV Harvest Set-Aside | 5,000
AI Unrestricted Fishery | 6,516
¹ These allocations will apply in 2018 only if NMFS receives notice of intent to process Aleutian Islands subarea Pacific cod by October 31, 2017, pursuant to § 679.20(a)(7)(viii) and if the performance requirements set forth in § 679.20(a)(7)(viii) are likewise met.
² This is the amount of the BSAI trawl CV A-season allocation that may be harvested in the Bering Sea prior to March 21, 2018, unless modified because the performance requirements were not met.

Sablefish Gear Allocation

Sections 679.20(a)(4)(iii) and (iv) require allocation of the sablefish TAC for the Bering Sea and Aleutian Islands subareas between trawl and hook-and-line or pot gear sectors. Gear allocations of the TAC for the Bering Sea subarea are 50 percent for trawl gear and 50 percent for hook-and-line or pot gear. Gear allocations of the TAC for the Aleutian Islands subarea are 25 percent for trawl gear and 75 percent for hook-and-line or pot gear. Section 679.20(b)(1)(ii)(B) requires NMFS to apportion 20 percent of the hook-and-line or pot gear allocation of sablefish to the CDQ reserve. Additionally, § 679.20(b)(1)(ii)(D)(1) requires that 7.5 percent of the trawl gear allocation of sablefish from the non-specified reserves, established under § 679.20(b)(1)(i), be assigned to the CDQ reserve. The Council recommended that only trawl sablefish TAC be established biennially. The harvest specifications for the hook-and-line gear and pot gear sablefish Individual Fishing Quota (IFQ) fisheries are limited to the 2017 fishing year to ensure those fisheries are conducted concurrently with the halibut IFQ fishery. Concurrent sablefish and halibut IFQ fisheries reduce the potential for discards of halibut and sablefish in those fisheries. The sablefish IFQ fisheries remain closed at the beginning of each fishing year until the final harvest specifications for the sablefish IFQ fisheries are in effect. Table 10 lists the 2017 and 2018 gear allocations of the sablefish TAC and CDQ reserve amounts.

Table 10—Final 2017 and 2018 Gear Shares and CDQ Reserve of BSAI Sablefish TACS
[Amounts are in metric tons]
Subarea and gear | Percent of TAC | 2017 Share of TAC | 2017 ITAC | 2017 CDQ reserve | 2018 Share of TAC | 2018 ITAC | 2018 CDQ reserve
Bering Sea:
Trawl ¹ | 50 | 637 | 541 | 48 | 637 | 541 | 48
Hook-and-line/pot gear ² | 50 | 637 | 510 | 127 | n/a | n/a | n/a
Total | 100 | 1,274 | 1,051 | 175 | 637 | 541 | 48
Aleutian Islands:
Trawl ¹ | 25 | 434 | 369 | 33 | 434 | 369 | 33
Hook-and-line/pot gear ² | 75 | 1,301 | 1,041 | 260 | n/a | n/a | n/a
Total | 100 | 1,735 | 1,410 | 293 | 434 | 369 | 33
¹ Except for the sablefish hook-and-line or pot gear allocation, 15 percent of TAC is apportioned to the nonspecified reserve (§ 679.20(b)(1)(i)). The ITAC is the remainder of the TAC after the subtracting these reserves.
² For the portion of the sablefish TAC allocated to vessels using hook-and-line or pot gear, 20 percent of the allocated TAC is reserved for use by CDQ participants (§ 679.20(b)(1)(ii)(B)). The Council recommended that specifications for the hook-and-line gear sablefish IFQ fisheries be limited to one year.
Note: Sector apportionments may not total precisely due to rounding.

Allocation of the Aleutian Islands Pacific Ocean Perch, and BSAI Flathead Sole, Rock Sole, and Yellowfin Sole TACs

Sections 679.20(a)(10)(i) and (ii) require that NMFS allocate Aleutian Islands Pacific ocean perch, and BSAI flathead sole, rock sole, and yellowfin sole TAC between the Amendment 80 sector and BSAI trawl limited access sector, after subtracting 10.7 percent for the CDQ reserve and an ICA for the BSAI trawl limited access sector and vessels using non-trawl gear. The allocation of the ITAC for Aleutian Islands Pacific ocean perch, and BSAI flathead sole, rock sole, and yellowfin sole to the Amendment 80 sector is established in accordance with Tables 33 and 34 to 50 CFR part 679 and § 679.91.

The 2018 allocations for Amendment 80 species between Amendment 80 cooperatives and the Amendment 80 limited access sector will not be known until eligible participants apply for participation in the program by November 1, 2017. Tables 11 and 12 list the 2017 and 2018 allocations of the Aleutian Islands Pacific ocean perch, and BSAI flathead sole, rock sole, and yellowfin sole TACs.

Table 11—Final 2017 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | Pacific ocean perch: Eastern Aleutian District | Pacific ocean perch: Central Aleutian District | Pacific ocean perch: Western Aleutian District | Flathead sole: BSAI | Rock sole: BSAI | Yellowfin sole: BSAI
TAC | 7,900 | 7,000 | 9,000 | 14,500 | 47,100 | 154,000
CDQ | 845 | 749 | 963 | 1,552 | 5,040 | 16,478
ICA | 100 | 60 | 10 | 4,000 | 5,000 | 4,500
BSAI trawl limited access | 695 | 619 | 161 | 0 | 0 | 18,151
Amendment 80 | 6,259 | 5,572 | 7,866 | 8,949 | 37,060 | 114,871
Alaska Groundfish Cooperative | 3,319 | 2,954 | 4,171 | 918 | 9,168 | 45,638
Alaska Seafood Cooperative | 2,940 | 2,617 | 3,695 | 8,031 | 27,893 | 69,233
Note: Sector apportionments may not total precisely due to rounding.

Table 12—Final 2018 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | Pacific ocean perch: Eastern Aleutian District | Pacific ocean perch: Central Aleutian District | Pacific ocean perch: Western Aleutian District | Flathead sole: BSAI | Rock sole: BSAI | Yellowfin sole: BSAI
TAC | 7,900 | 7,000 | 9,000 | 14,500 | 47,100 | 154,000
CDQ | 845 | 749 | 963 | 1,552 | 5,040 | 16,478
ICA | 100 | 60 | 10 | 4,000 | 5,000 | 4,500
BSAI trawl limited access | 695 | 619 | 161 | 0 | 0 | 18,151
Amendment 80 ¹ | 6,259 | 5,572 | 7,866 | 8,949 | 37,060 | 114,871
¹ The 2018 allocations for Amendment 80 species between Amendment 80 cooperatives and the Amendment 80 limited access sector will not be known until eligible participants apply for participation in the program by November 1, 2017. NMFS will publish 2018 Amendment 80 allocations when they become available in December 2017.
Note: Sector apportionments may not total precisely due to rounding.

Section 679.2 defines the ABC surplus for flathead sole, rock sole, and yellowfin sole as the difference between the annual ABC and TAC for each species. Section 679.20(b)(1)(iii) establishes ABC reserves for flathead sole, rock sole, and yellowfin sole. The ABC surpluses and the ABC reserves are necessary to mitigate the operational variability, environmental conditions, and economic factors that may constrain the CDQ groups and the Amendment 80 cooperatives from achieving, on a continuing basis, the optimum yield in the BSAI groundfish fisheries. NMFS, after consultation with the Council, may set the ABC reserve at or below the ABC surplus for each species thus maintaining the TAC below ABC limits. An amount equal to 10.7 percent of the ABC reserves will be allocated as CDQ reserves for flathead sole, rock sole, and yellowfin sole. The Amendment 80 ABC reserves shall be the ABC reserves minus the CDQ ABC reserves. Section 679.91(i)(2) establishes each Amendment 80 cooperative ABC reserve to be the ratio of each cooperatives' quota share units and the total Amendment 80 quota share units, multiplied by the Amendment 80 ABC reserve for each respective species. Table 13 lists the 2017 and 2018 ABC surplus and ABC reserves for BSAI flathead sole, rock sole, and yellowfin sole.

Table 13—Final 2017 and 2018 ABC Surplus, Community Development Quota (CDQ) ABC Reserves, and Amendment 80 ABC Reserves in the BSAI for Flathead Sole, Rock Sole, and Yellowfin Sole
[Amounts are in metric tons]
Sector | 2017 Flathead sole | 2017 Rock sole | 2017 Yellowfin sole | 2018 Flathead sole | 2018 Rock sole | 2018 Yellowfin sole
ABC | 68,278 | 155,100 | 260,800 | 66,164 | 143,100 | 250,800
TAC | 14,500 | 47,100 | 154,000 | 14,500 | 47,100 | 154,000
ABC surplus | 53,778 | 108,000 | 106,800 | 51,664 | 96,000 | 96,800
ABC reserve | 53,778 | 108,000 | 106,800 | 51,664 | 96,000 | 96,800
CDQ ABC reserve | 5,754 | 11,556 | 11,428 | 5,528 | 10,272 | 10,358
Amendment 80 ABC reserve | 48,024 | 96,444 | 95,372 | 46,136 | 85,728 | 86,442
Alaska Groundfish Cooperative for 2017¹ | 4,926 | 23,857 | 37,891 | n/a | n/a | n/a
Alaska Seafood Cooperative for 2017¹ | 43,098 | 72,587 | 57,481 | n/a | n/a | n/a
¹ The 2018 allocations for Amendment 80 species between Amendment 80 cooperatives and the Amendment 80 limited access sector will not be known until eligible participants apply for participation in the program by November 1, 2017.

PSC Limits for Halibut, Salmon, Crab, and Herring

Section 679.21(b), (e), (f), and (g) sets forth the BSAI PSC limits. Pursuant to § 679.21(b)(1), the 2017 and 2018 BSAI halibut PSC limits total 3,515 mt. Section 679.21(b)(1) allocates 315 mt of the halibut PSC limit as the PSQ reserve for use by the groundfish CDQ program, 1,745 mt of halibut PSC limit for the Amendment 80 sector, 745 mt of halibut PSC limit for the BSAI trawl limited access sector, and 710 mt of halibut PSC limit for the BSAI non-trawl sector.

Section 679.21(b)(1)(iii)(A) and (B) authorizes apportionment of the non-trawl halibut PSC limit into PSC allowances among six fishery categories, and §§ 679.21(b)(1)(ii)(A) and (B), 679.21(e)(3)(i)(B), and 679.21(e)(3)(iv) require apportionment of the BSAI trawl limited access halibut and crab PSC limits into PSC allowances among seven fishery categories. Tables 15 and 16 list the fishery PSC allowances for the trawl fisheries, and Table 17 lists the fishery PSC allowances for the non-trawl fisheries.

Pursuant to Section 3.6 of the FMP, the Council recommends, and NMFS agrees, that certain specified non-trawl fisheries be exempt from the halibut PSC limit. As in past years, after consultation with the Council, NMFS exempts pot gear, jig gear, and the sablefish IFQ hook-and-line gear fishery categories from halibut bycatch restrictions for the following reasons: (1) The pot gear fisheries have low halibut bycatch mortality; (2) NMFS estimates halibut mortality for the jig gear fleet to be negligible because of the small size of the fishery and the selectivity of the gear; and (3) the sablefish and halibut IFQ fisheries have low halibut bycatch mortality because the IFQ program requires legal-size halibut to be retained by vessels using hook-and-line gear if a halibut IFQ permit holder or a hired master is aboard and is holding unused halibut IFQ (§ 679.7(f)(11)).

The 2016 total groundfish catch for the pot gear fishery in the BSAI was 46,578 mt, with an associated halibut bycatch mortality of 2 mt. The 2016 jig gear fishery harvested about 47 mt of groundfish. Most vessels in the jig gear fleet are exempt from observer coverage requirements. As a result, observer data are not available on halibut bycatch in the jig gear fishery. However, as mentioned above, NMFS estimates a negligible amount of halibut bycatch mortality because of the selective nature of jig gear and the low mortality rate of halibut caught with jig gear and released.

Under § 679.21(f)(2), NMFS annually allocates portions of either 33,318, 45,000, 47,591, or 60,000 Chinook salmon PSC limits among the AFA sectors, depending on past bycatch performance, on whether Chinook salmon bycatch incentive plan agreements (IPAs) are formed, and on whether NMFS determines it is a low Chinook salmon abundance year. NMFS will determine that it is a low Chinook salmon abundance year when abundance of Chinook salmon in western Alaska is less than or equal to 250,000 Chinook salmon. The State of Alaska provides to NMFS an estimate of Chinook salmon abundance using the 3-System Index for western Alaska based on the Kuskokwim, Unalakleet, and Upper Yukon aggregate stock grouping.

If an AFA sector participates in an approved IPA and it is not a low Chinook salmon abundance year, then NMFS will allocate a portion of the 60,000 PSC limit to that sector as specified in § 679.21(f)(3)(iii)(A). If no IPA is approved, or if the sector has exceeded its performance standard under § 679.21(f)(6), and it is not a low abundance year, NMFS will allocate a portion of the 47,591 Chinook salmon PSC limit to that sector as specified in § 679.21(f)(3)(iii)(C). If an AFA sector participates in an approved IPA in a low abundance year, then NMFS will allocate a portion of the 45,000 PSC limit to that sector as specified in § 679.21(f)(3)(iii)(B). If no IPA is approved, or if the sector has exceeded its performance standard under § 679.21(f)(6), in a low abundance year, NMFS will allocate a portion of the 33,318 Chinook salmon PSC limit to that sector as specified in § 679.21(f)(3)(iii)(D).

NMFS has determined that 2016 was not a low Chinook salmon abundance year based on the State of Alaska's estimate that Chinook salmon abundance in western Alaska is greater than 250,000 Chinook salmon. Therefore, in 2017, the Chinook salmon PSC limit is 60,000, and the AFA sector Chinook salmon allocations are seasonally allocated with 70 percent of the allocation for the A season pollock fishery, and 30 percent of the allocation for the B season pollock fishery as stated in § 679.21(f)(3)(i). Allocations of the Chinook salmon PSC limit of 60,000 to each AFA sector are specified in § 679.21(f)(3)(iii)(A). Additionally, in 2017, the Chinook salmon bycatch performance standard under § 679.21(f)(6) is 47,591 Chinook salmon, allocated to each sector as specified in § 679.21(f)(3)(iii)(C).

The basis for these PSC limits is described in detail in the final rule implementing management measures for Amendment 91 (75 FR 53026, August 30, 2010) and Amendment 110 (81 FR 37534, June 10, 2016). NMFS publishes the approved IPAs, allocations, and reports at http://alaskafisheries.noaa.gov/sustainablefisheries/bycatch/default.htm.

Section 679.21(g)(2)(i) specifies 700 fish as the 2017 and 2018 Chinook salmon PSC limit for the Aleutian Islands subarea pollock fishery. Section 679.21(g)(2)(ii) allocates 7.5 percent, or 53 Chinook salmon, as the Aleutian Islands subarea PSQ reserve for the CDQ program and allocates the remaining 647 Chinook salmon to the non-CDQ fisheries.

Section 679.21(f)(14)(i) specifies 42,000 fish as the 2017 and 2018 non-Chinook salmon PSC limit in the Catcher Vessel Operational Area (CVOA). Section 679.21(f)(14)(ii) allocates 10.7 percent, or 4,494 non-Chinook salmon, in the CVOA as the PSQ reserve for the CDQ program, and allocates the remaining 37,506 non-Chinook salmon in the CVOA as the PSC limit for the non-CDQ fisheries.

PSC limits for crab and herring are specified annually based on abundance and spawning biomass. Section 679.21(e)(3)(i)(A)(1) allocates 10.7 percent from each trawl gear PSC limit specified for crab as a PSQ reserve for use by the groundfish CDQ program.

Based on the 2016 survey data, the red king crab mature female abundance is estimated to be at 22.8 million mature red king crabs, and the effective spawning biomass is estimated at 42.2 million lbs (19,148 mt). Based on the criteria set out at § 679.21(e)(1)(i), the 2017 and 2018 PSC limit of red king crab in Zone 1 for trawl gear is 97,000 animals. This limit derives from the mature female abundance of more than 8.4 million mature king crab and the effective spawning biomass estimate of more than 14.5 million lbs (6,477 mt) but less than 55 million lbs (24,948 mt).

Section 679.21(e)(3)(ii)(B)(2) establishes criteria under which NMFS must specify an annual red king crab bycatch limit for the Red King Crab Savings Subarea (RKCSS). The regulations limit the RKCSS red king crab bycatch limit to 25 percent of the red king crab PSC limit, based on the need to optimize the groundfish harvest relative to red king crab bycatch. In December 2016, the Council recommended and NMFS concurs that the red king crab bycatch limit be equal to 25 percent of the red king crab PSC limit within the RKCSS (Table 15).

Based on 2016 survey data, Tanner crab (Chionoecetes bairdi) abundance is estimated at 285 million animals. Pursuant to criteria set out at § 679.21(e)(1)(ii), the calculated 2017 and 2018 C. bairdi crab PSC limit for trawl gear is 830,000 animals in Zone 1, and 2,070,000 animals in Zone 2. The limit in Zone 1 is based on the abundance of C. bairdi estimated at 285 million animals, which is greater than 270 million and less than 400 million animals. The limit in Zone 2 is based on the abundance of C. bairdi estimated at 285 million animals, which is greater than 175 million animals and less than 290 million animals.

Pursuant to § 679.21(e)(1)(iii), the PSC limit for snow crab (C. opilio) is based on total abundance as indicated by the NMFS annual bottom trawl survey. The C. opilio crab PSC limit is set at 0.1133 percent of the Bering Sea abundance index minus 150,000 crab. Based on the 2016 survey estimate of 8.169 billion animals, which is above the minimum PSC limit of 4.5 million and below the maximum PSC limit of 13 million animals, the calculated C. opilio crab PSC limit is 9,105,477 animals.

Pursuant to § 679.21(e)(1)(v), the PSC limit of Pacific herring caught while conducting any trawl operation for BSAI groundfish is 1 percent of the annual eastern Bering Sea herring biomass. The best estimate of 2017 and 2018 herring biomass is 201,278 mt. This amount was developed by the Alaska Department of Fish and Game based on biomass for spawning aggregations. Therefore, the herring PSC limit for 2017 and 2018 is 2,013 mt for all trawl gear as listed in Tables 14 and 15.

Section 679.21(e)(3)(i)(A)(1) requires crab PSQ reserves to be subtracted from the total trawl crab PSC limits. The 2017 PSC limits assigned to the Amendment 80 and BSAI trawl limited access sectors are specified in Table 35 to 50 CFR part 679. The resulting allocations of PSC limit to CDQ PSQ, the Amendment 80 sector, and the BSAI trawl limited access fisheries are listed in Table 14. Pursuant to § 679.21(b)(1)(i), 679.21(e)(3)(vi) and § 679.91(d) through (f), crab and halibut trawl PSC limits assigned to the Amendment 80 sector are then further allocated to Amendment 80 cooperatives as PSC cooperative quota as listed in Table 18. PSC cooperative quota assigned to Amendment 80 cooperatives is not allocated to specific fishery categories. In 2017, there are no vessels in the Amendment 80 limited access sector. The 2018 PSC allocations between Amendment 80 cooperatives and the Amendment 80 limited access sector will not be known until eligible participants apply for participation in the program by November 1, 2017. Section 679.21(e)(3)(i)(B) requires NMFS to apportion each trawl PSC limit not assigned to Amendment 80 cooperatives into PSC bycatch allowances for seven specified fishery categories in § 679.21(e)(3)(iv).

Section 679.21(b)(2) and (e)(5) authorizes NMFS, after consulting with the Council, to establish seasonal apportionments of PSC amounts for the BSAI trawl limited access and Amendment 80 limited access sectors in order to maximize the ability of the fleet to harvest the available groundfish TAC and to minimize bycatch. The factors to be considered are (1) seasonal distribution of prohibited species, (2) seasonal distribution of target groundfish species relative to prohibited species distribution, (3) PSC bycatch needs on a seasonal basis relevant to prohibited species biomass and expected catches of target species, (4) expected variations in bycatch rates throughout the year, (5) expected changes in directed groundfish fishing seasons, (6) expected start of fishing effort, and (7) economic effects of seasonal PSC apportionments on industry sectors. The Council recommended and NMFS approves the seasonal PSC apportionments in Tables 15 and 16 to maximize harvest among gear types, fisheries, and seasons while minimizing bycatch of PSC based on the above criteria.

Table 14—Final 2017 and 2018 Apportionment of Prohibited Species Catch Allowances to Non-Trawl Gear, the CDQ Program, Amendment 80, and the BSAI Trawl Limited Access Sectors
PSC species and area ¹ | Total PSC | Non-trawl PSC | CDQ PSQ reserve ² | Trawl PSC remaining after CDQ PSQ | Amendment 80 sector ³ | BSAI trawl limited access fishery
Halibut mortality (mt) BSAI | 3,515 | 710 | 315 | n/a | 1,745 | 745
Herring (mt) BSAI | 2,013 | n/a | n/a | n/a | n/a | n/a
Red king crab (animals) Zone 1 | 97,000 | n/a | 10,379 | 86,621 | 43,293 | 26,489
C. opilio (animals) COBLZ | 9,105,477 | n/a | 974,286 | 8,131,191 | 3,996,480 | 2,613,365
C. bairdi crab (animals) Zone 1 | 830,000 | n/a | 88,810 | 741,190 | 312,115 | 348,285
C. bairdi crab (animals) Zone 2 | 2,070,000 | n/a | 221,490 | 1,848,510 | 437,542 | 865,288
¹ Refer to § 679.2 for definitions of zones.
² The PSQ reserve for crab species is 10.7 percent of each crab PSC limit.
³ The Amendment 80 program reduced apportionment of the trawl PSC limits for crab below the total PSC limit. These reductions are not apportioned to other gear types or sectors.

Table 15—Final 2017 and 2018 Herring and Red King Crab Savings Subarea Prohibited Species Catch Allowances for All Trawl Sectors
Fishery categories | Herring (mt) BSAI | Red king crab (animals) Zone 1
Yellowfin sole | 100 | n/a
Rock sole/flathead sole/other flatfish ¹ | 43 | n/a
Greenland turbot/arrowtooth flounder/Kamchatka flounder/sablefish | 5 | n/a
Rockfish | 5 | n/a
Pacific cod | 10 | n/a
Midwater trawl pollock | 1,800 | n/a
Pollock/Atka mackerel/other species 2 3 | 50 | n/a
Red king crab savings subarea non-pelagic trawl gear 4 | n/a | 24,250
Total trawl PSC | 2,013 | 97,000
¹ “Other flatfish” for PSC monitoring includes all flatfish species, except for halibut (a prohibited species), arrowtooth flounder, flathead sole, Greenland turbot, Kamchatka flounder, rock sole, and yellowfin sole.
² Pollock other than pelagic trawl pollock, Atka mackerel, and “other species” fishery category.
³ “Other species” for PSC monitoring includes skates, sculpins, sharks, squids, and octopuses.
⁴ In December 2016, the Council recommended that the red king crab bycatch limit for non-pelagic trawl fisheries within the RKCSS be limited to 25 percent of the red king crab PSC allowance (see § 679.21(e)(3)(ii)(B)(2)).
Note: Species apportionments may not total precisely due to rounding.

Table 16—Final 2017 and 2018 Prohibited Species Bycatch Allowances for the BSAI Trawl Limited Access Sector
BSAI trawl limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 150 | 23,338 | 2,463,587 | 293,234 | 826,258
Rock sole/flathead sole/other flatfish ² | 0 | 0 | 0 | 0 | 0
Greenland turbot/arrowtooth flounder/Kamchatka flounder/sablefish | 0 | 0 | 0 | 0 | 0
Rockfish April 15—December 31 | 4 | 0 | 4,069 | 0 | 697
Pacific cod | 391 | 2,954 | 105,008 | 50,816 | 34,848
Pollock/Atka mackerel/other species ³ | 200 | 197 | 40,701 | 4,235 | 3,485
Total BSAI trawl limited access PSC | 745 | 26,489 | 2,613,365 | 348,285 | 865,288
¹ Refer to § 679.2 for definitions of areas.
² “Other flatfish” for PSC monitoring includes all flatfish species, except for halibut (a prohibited species), flathead sole, Greenland turbot, rock sole, yellowfin sole, Kamchatka flounder, and arrowtooth flounder.
³ “Other species” for PSC monitoring includes skates, sculpins, sharks, squids, and octopuses.
Note: Seasonal or sector apportionments may not total precisely due to rounding.

Table 17—Final 2017 and 2018 Halibut Prohibited Species Bycatch Allowances for Non-Trawl Fisheries
Halibut mortality (mt) BSAI: Non-trawl fisheries | Halibut mortality (mt) BSAI: Seasons | Halibut mortality (mt) BSAI: Catcher/ processor | Halibut mortality (mt) BSAI: Catcher vessel | Halibut mortality (mt) BSAI: All non-trawl
Pacific cod | Total Pacific cod | 648 | 13 | 661
| January 1-June 10 | 388 | 9 | n/a
| June 10-August 15 | 162 | 2 | n/a
| August 15-December 31 | 98 | 2 | n/a
Non-Pacific cod non-trawl-Total | May 1-December 31 | n/a | n/a | 49
Groundfish pot and jig | n/a | n/a | n/a | Exempt
Sablefish hook-and-line | n/a | n/a | n/a | Exempt
Total for all non-trawl PSC | n/a | n/a | n/a | 710
Note: Seasonal or sector apportionments may not total precisely due to rounding.

Table 18—Final 2017 Prohibited Species Bycatch Allowance for the BSAI Amendment 80 Cooperatives
Cooperative | Prohibited species and zones ¹: Halibut mortality (mt) BSAI | Prohibited species and zones ¹: Red king crab (animals) Zone 1 | Prohibited species and zones ¹: C. opilio (animals) COBLZ | Prohibited species and zones ¹: C. bairdi (animals): Zone 1 | Prohibited species and zones ¹: C. bairdi (animals): Zone 2
Alaska Groundfish Cooperative | 474 | 12,459 | 1,258,109 | 82,136 | 112,839
Alaska Seafood Cooperative | 1,271 | 30,834 | 2,738,371 | 229,979 | 324,703
¹ Refer to § 679.2 for definitions of zones.
Note: Sector apportionments may not total precisely due to rounding.

Estimates of Halibut Biomass and Stock Condition

The International Pacific Halibut Commission (IPHC) annually assesses the abundance and potential yield of the Pacific halibut stock using all available data from the commercial and sport fisheries, other removals, and scientific surveys. Additional information on the Pacific halibut stock assessment may be found in the IPHC's 2016 Pacific halibut stock assessment (December 2016), available on the IPHC Web site at www.iphc.int. The IPHC considered the 2016 Pacific halibut stock assessment at its January 2017 annual meeting when it set the 2017 commercial halibut fishery catch limits.

Halibut Discard Mortality Rates

To monitor halibut bycatch mortality allowances and apportionments, the Regional Administrator uses observed halibut incidental catch rates, halibut discard mortality rates (DMRs), and estimates of groundfish catch to project when a fishery's halibut bycatch mortality allowance or seasonal apportionment is reached. Halibut incidental catch rates are based on observers' estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best information available in conjunction with the annual BSAI stock assessment process. The DMR methodology and findings are included as an appendix to the annual BSAI groundfish SAFE report.

In 2016, the DMR estimation methodology underwent revisions per the Council's directive. An interagency halibut working group (IPHC, Council, and NMFS staff) developed improved estimation methods that have undergone review by the Plan Team, SSC, and the Council. A summary of the revised methodology is included in the BSAI proposed 2017 and 2018 harvest specifications (81 FR 87863, December 6, 2016) and the comprehensive discussion of the working group's statistical methodology is available from the Council (see ADDRESSES). While the DMR working group's revised methodology is intended to improve estimation accuracy as well as transparency and transferability in the methodology used for calculating DMRs, the working group will continue to consider improvements to the methodology used to calculate halibut mortality. Future DMRs, including the 2018 DMRs, may change based on an additional year of observer sampling that could provide more recent and accurate data and could improve the accuracy of estimation and progress on methodology.

At the December 2016 meeting, the SSC, AP, and Council reviewed and concurred in the revised DMR estimation methodology proposed by the working group. The Council recommended the halibut DMRs derived from this process for 2017 and 2018. The final calculation of the DMRs changed 1 percent from the proposed DMRs for two sectors (hook-and-line catcher vessel and pot sectors). Table 19 lists the proposed 2017 and 2018 DMRs.

Table 19—2017 and 2018 Pacific Halibut Discard Mortality Rates for the BSAI
Gear | Sector | Halibut discard mortality rate (percent)
Pelagic trawl | All | 100
Non-pelagic trawl | Mothership and catcher/processor | 85
Non-pelagic trawl | Catcher vessel | 52
Hook-and-line | Catcher/processor | 8
Hook-and-line | Catcher vessel | 14
Pot | All | 6

Directed Fishing Closures

In accordance with § 679.20(d)(1)(i), the Regional Administrator may establish a DFA for a species or species group if the Regional Administrator determines that any allocation or apportionment of a target species has been or will be reached. If the Regional Administrator establishes a DFA, and that allowance is or will be reached before the end of the fishing year, NMFS will prohibit directed fishing for that species or species group in the specified subarea, regulatory area, or district (see § 697.20(d)(1)(iii)). Similarly, pursuant to §§ 679.21(b)(4) and (e)(7), if the Regional Administrator determines that a fishery category's bycatch allowance of halibut, red king crab, C. bairdi crab, or C. opilio crab for a specified area has been reached, the Regional Administrator will prohibit directed fishing for each species in that category in the specified area.

Based on historic catch patterns and anticipated fishing activity, the Regional Administrator has determined that the groundfish allocation amounts in Table 20 will be necessary as incidental catch to support other anticipated groundfish fisheries for the 2017 and 2018 fishing years. Consequently, in accordance with § 679.20(d)(1)(i), the Regional Administrator establishes the DFA for the species and species groups in Table 20 as zero. Therefore, in accordance with § 679.20(d)(1)(iii), NMFS is prohibiting directed fishing for these sectors and species in the specified areas effective at 1200 hrs, A.l.t., February 27, 2017, through 2400 hrs, A.l.t., December 31, 2018. Also, for the BSAI trawl limited access sector, bycatch allowances of halibut, red king crab, C. bairdi crab, and C. opilio crab listed in Table 20 are insufficient to support directed fisheries. Therefore, in accordance with §§ 679.21(b)(4)(i) and (e)(7), NMFS is prohibiting directed fishing for these sectors and fishery categories in the specified areas effective at 1200 hrs, A.l.t., February 27, 2017, through 2400 hrs, A.l.t., December 31, 2018.

Table 20—2017 and 2018 Directed Fishing Closures ¹
[Groundfish and halibut amounts are in metric tons. Crab amounts are in number of animals.]
Area | Sector | Species | 2017 Incidental catch allowance | 2018 Incidental catch allowance
Bogoslof District | All | Pollock | 500 | 500
Aleutian Islands subarea | All | ICA pollock | 2,400 | 2,400
|  | “Other rockfish” ² | 550 | 550
Eastern Aleutian District/Bering Sea | Non-amendment 80, CDQ, and BSAI trawl limited access | ICA Atka mackerel | 1,000 | 1,000
Eastern Aleutian District/Bering Sea | All | Rougheye rockfish | 100 | 100
Eastern Aleutian District | Non-amendment 80, CDQ, and BSAI trawl limited access | ICA Pacific ocean perch | 100 | 100
Central Aleutian District | Non-amendment 80, CDQ, and BSAI trawl limited access | ICA Atka mackerel ICA Pacific ocean perch | 75 60 | 75 60
Western Aleutian District | Non-amendment 80, CDQ and BSAI trawl limited access | ICA Atka mackerel ICA Pacific ocean perch | 20 10 | 20 10
Western and Central Aleutian Districts | All | Rougheye rockfish | 125 | 125
Bering Sea subarea | All | Pacific ocean perch | 9,350 | 9,350
|  | “Other rockfish” ² | 325 | 325
|  | ICA pollock | 47,210 | 47,210
Bering Sea and Aleutian Islands | All | Northern rockfish | 4,250 | 4,250
|  | Shortraker rockfish | 125 | 125
|  | Skates | 22,100 | 22,100
|  | Sculpins | 3,825 | 3,825
|  | Sharks | 125 | 125
|  | Squids | 1,275 | 1,275
|  | Octopuses | 400 | 400
| Hook-and-line and pot gear | ICA Pacific cod | 500 | 500
| Non-amendment 80 and CDQ | ICA flathead sole | 4,000 | 4,000
|  | ICA rock sole | 5,000 | 5,000
| Non-amendment 80, CDQ, and BSAI trawl limited access | ICA yellowfin sole | 4,500 | 4,500
| BSAI trawl limited access | Rock sole/flathead sole/other flatfish—halibut mortality, red king crab Zone 1, C. opilio COBLZ, C. bairdi Zone 1 and 2 | 0 | 0
|  | Turbot/arrowtooth/sablefish—halibut mortality, red king crab Zone 1, C. opilio COBLZ, C. bairdi Zone 1 and 2 | 0 | 0
|  | Rockfish—red king crab Zone 1 | 0 | 0
¹ Maximum retainable amounts may be found in Table 11 to 50 CFR part 679.
² “Other rockfish” includes all Sebastes and Sebastolobus species except for Pacific ocean perch, northern rockfish, shortraker rockfish, and rougheye rockfish.

Closures implemented under the final 2016 and 2017 BSAI harvest specifications for groundfish (81 FR 14773, March 18, 2016) remain effective under authority of these final 2017 and 2018 harvest specifications, and are posted at the following Web sites: http://alaskafisheries.noaa.gov/cm/info_bulletins/ and http://alaskafisheries.noaa.gov/fisheries_reports/reports/. While these closures are in effect, the maximum retainable amounts at § 679.20(e) and (f) apply at any time during a fishing trip. These closures to directed fishing are in addition to closures and prohibitions found at 50 CFR part 679.

Listed AFA Catcher/Processor Sideboard Limits

Pursuant to § 679.64(a), the Regional Administrator is responsible for restricting the ability of listed AFA C/Ps to engage in directed fishing for groundfish species other than pollock to protect participants in other groundfish fisheries from adverse effects resulting from the AFA and from fishery cooperatives in the pollock directed fishery. These restrictions are set out as “sideboard” limits on catch. The basis for these sideboard limits is described in detail in the final rules implementing the major provisions of the AFA (67 FR 79692, December 30, 2002) and Amendment 80 (72 FR 52668, September 14, 2007). Table 21 lists the 2017 and 2018 AFA C/P sideboard limits. Section 679.64(a)(1)(v) exempts AFA catcher/processors from a yellowfin sole sideboard limit because the 2017 and 2018 aggregate ITAC of yellowfin sole assigned to the Amendment 80 sector and BSAI trawl limited access sector is greater than 125,000 mt.

All harvest of groundfish sideboard species by listed AFA C/Ps, whether as targeted catch or incidental catch, will be deducted from the sideboard limits in Table 21. However, groundfish sideboard species that are delivered to listed AFA C/Ps by CVs will not be deducted from the 2017 and 2018 sideboard limits for the listed AFA C/Ps.

Table 21—Final 2017 and 2018 Listed BSAI American Fisheries Act Catcher/Processor Groundfish Sideboard Limits
[Amounts are in metric tons]
Target species | Area/season | 1995-1997: Retained catch | 1995-1997: Total catch | 1995-1997: Ratio of retained catch to total catch | 2017 ITAC available to trawl C/Ps ¹ | 2017 AFA C/P sideboard limit | 2018 ITAC available to trawl C/Ps ¹ | 2018 AFA C/P sideboard limit
Sablefish trawl | BS | 8 | 497 | 0.016 | 541 | 9 | 541 | 9
| AI | 0 | 145 | 0 | 369 | 0 | 369 | 0
Atka mackerel | Central AI A season ² | n/a | n/a | 0.115 | 15,405 | 1,772 | 15,405 | 1,772
| Central AI B season ² | n/a | n/a | 0.115 | 15,405 | 1,772 | 15,405 | 1,772
| Western AI A season ² | n/a | n/a | 0.2 | 5,582 | 1,116 | 5,582 | 1,116
| Western AI B season ² | n/a | n/a | 0.2 | 5,582 | 1,116 | 5,582 | 1,116
Rock sole | BSAI | 6,317 | 169,362 | 0.037 | 42,060 | 1,556 | 42,060 | 1,556
Greenland turbot | BS | 121 | 17,305 | 0.007 | 3,719 | 26 | 3,719 | 26
| AI | 23 | 4,987 | 0.005 | 106 | 1 | 106 | 1
Arrowtooth flounder | BSAI | 76 | 33,987 | 0.002 | 11,900 | 24 | 11,900 | 24
Kamchatka flounder | BSAI | 76 | 33,987 | 0.002 | 4,250 | 9 | 4,250 | 9
Flathead sole | BSAI | 1,925 | 52,755 | 0.036 | 12,949 | 466 | 12,949 | 466
Alaska plaice | BSAI | 14 | 9,438 | 0.001 | 11,050 | 11 | 11,050 | 11
Other flatfish | BSAI | 3,058 | 52,298 | 0.058 | 2,125 | 123 | 2,125 | 123
Pacific ocean perch | BS | 12 | 4,879 | 0.002 | 9,350 | 19 | 9,350 | 19
| Eastern AI | 125 | 6,179 | 0.02 | 7,055 | 141 | 7,055 | 141
| Central AI | 3 | 5,698 | 0.001 | 6,251 | 6 | 6,251 | 6
| Western AI | 54 | 13,598 | 0.004 | 8,037 | 32 | 8,037 | 32
Northern rockfish | BSAI | 91 | 13,040 | 0.007 | 4,250 | 30 | 4,250 | 30
Shortraker rockfish | BSAI | 50 | 2,811 | 0.018 | 125 | 2 | 125 | 2
Rougheye rockfish | EBS/EAI | 50 | 2,811 | 0.018 | 100 | 2 | 100 | 2
| CAI/WAI | 50 | 2,811 | 0.018 | 125 | 2 | 125 | 2
Other rockfish | BS | 18 | 621 | 0.029 | 325 | 9 | 325 | 9
| AI | 22 | 806 | 0.027 | 550 | 15 | 550 | 15
Skates | BSAI | 553 | 68,672 | 0.008 | 22,100 | 177 | 22,100 | 177
Sculpins | BSAI | 553 | 68,672 | 0.008 | 3,825 | 31 | 3,825 | 31
Sharks | BSAI | 553 | 68,672 | 0.008 | 125 | 1 | 125 | 1
Squids | BSAI | 73 | 3,328 | 0.022 | 1,141 | 25 | 1,141 | 25
Octopuses | BSAI | 553 | 68,672 | 0.008 | 400 | 3 | 400 | 3
¹ Aleutian Islands Pacific ocean perch, and BSAI Atka mackerel, flathead sole, and rock sole are multiplied by the remainder of the TAC after the subtraction of the CDQ reserve under § 679.20(b)(1)(ii)(C).
² The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.

Section 679.64(a)(2) and Tables 40 and 41 of 50 CFR part 679 establish a formula for calculating PSC sideboard limits for halibut and crab for listed AFA C/Ps. The basis for these sideboard limits is described in detail in the final rules implementing the major provisions of the AFA (67 FR 79692, December 30, 2002) and Amendment 80 (72 FR 52668, September 14, 2007).

PSC species listed in Table 22 that are caught by listed AFA C/Ps participating in any groundfish fishery other than pollock will accrue against the 2017 and 2018 PSC sideboard limits for the listed AFA C/Ps. Sections 679.21(b)(4)(iii) and (e)(3)(v) authorize NMFS to close directed fishing for groundfish other than pollock for listed AFA C/Ps once a 2017 or 2018 PSC sideboard limit listed in Table 22 is reached.

Pursuant to §§ 679.21(b)(1)(ii)(C) and (e)(3)(ii)(C), crab or halibut PSC caught by listed AFA C/Ps while fishing for pollock will accrue against the bycatch allowances annually specified for either the midwater pollock or the pollock/Atka mackerel/“other species” fishery categories under §§ 679.21(b)(1)(ii)(B) and (e)(3)(iv).

Table 22—Final 2017 and 2018 BSAI AFA Listed Catcher/Processor Prohibited Species Sideboard Limits
PSC species and area ¹ | Ratio of PSC catch to total PSC | 2017 and 2018 PSC available to trawl vessels after subtraction of PSQ ² | 2017 and 2018 AFA catcher/ processor sideboard limit ²
Halibut mortality BSAI | n/a | n/a | 286
Red king crab zone 1 | 0.007 | 86,621 | 606
C. opilio (COBLZ) | 0.153 | 8,131,191 | 1,244,072
C. bairdi Zone 1 | 0.14 | 741,190 | 103,767
C. bairdi Zone 2 | 0.05 | 1,848,510 | 92,426
¹ Refer to § 679.2 for definitions of areas.
² Halibut amounts are in metric tons of halibut mortality. Crab amounts are in numbers of animals.

AFA Catcher Vessel Sideboard Limits

Pursuant to § 679.64(b), the Regional Administrator is responsible for restricting the ability of AFA CVs to engage in directed fishing for groundfish species other than pollock to protect participants in other groundfish fisheries from adverse effects resulting from the AFA and from fishery cooperatives in the pollock directed fishery. Section 679.64(b)(3)-(4) establishes a formula for setting AFA CV groundfish and PSC sideboard limits for the BSAI. The basis for these sideboard limits is described in detail in the final rules implementing the major provisions of the AFA (67 FR 79692, December 30, 2002) and Amendment 80 (72 FR 52668, September 14, 2007). Section 679.64(b)(6) exempts AFA catcher vessels from a yellowfin sole sideboard limit because the 2017 and 2018 aggregate ITAC of yellowfin sole assigned to the Amendment 80 sector and BSAI trawl limited access sector is greater than 125,000 mt. Tables 23 and 24 list the 2017 and 2018 AFA CV sideboard limits.

All catch of groundfish sideboard species made by non-exempt AFA CVs, whether as targeted catch or incidental catch, will be deducted from the 2017 and 2018 sideboard limits listed in Table 23.

Halibut and crab PSC limits listed in Table 24 that are caught by AFA CVs participating in any groundfish fishery for groundfish other than pollock will accrue against the 2017 and 2018 PSC sideboard limits for the AFA CVs. Sections 679.21(d)(7) and 679.21(e)(3)(v) authorize NMFS to close directed fishing for groundfish other than pollock for AFA CVs once a 2016 or 2017 PSC sideboard limit listed in Table 24 is reached. Pursuant to §§ 679.21(b)(1)(ii)(C) and (e)(3)(ii)(C), the PSC that is caught by AFA CVs while fishing for pollock in the BSAI will accrue against the bycatch allowances annually specified for either the midwater pollock or the pollock/Atka mackerel/“other species” fishery categories under § 679.21(b)(1)(ii)(B) and (e)(3)(iv).

Table 23—Final 2017 and 2018 American Fisheries Act Catcher Vessel BSAI Groundfish Sideboard Limits
[Amounts are in metric tons]
Species/gear | Fishery by area/season | Ratio of 1995-1997 AFA CV catch to 1995-1997 TAC | 2017 initial TAC ¹ | 2017 AFA catcher vessel sideboard limits | 2018 initial TAC ¹ | 2018 AFA catcher vessel sideboard limits
Pacific cod/Jig gear | BSAI | 0 | n/a | 0 | n/a | 0
Pacific cod/Hook-and-line CV ≥ 60 feet LOA | BSAI Jan 1-Jun 10 BSAI Jun 10-Dec 31 | 0.0006 0.0006 | 217 209 | 0 0 | 217 209 | 0 0
Pacific cod pot gear CV | BSAI Jan 1-Jun 10 | 0.0006 | 9,123 | 5 | 9,123 | 5
| BSAI Sept 1-Dec 31 | 0.0006 | 8,765 | 5 | 8,765 | 5
Pacific cod CV ≤ 60 feet LOA using hook-and-line or pot gear | BSAI | 0.0006 | 4,259 | 3 | 4,259 | 3
Pacific cod trawl gear CV | BSAI Jan 20-Apr 1 | 0.8609 | 34,962 | 30,099 | 34,962 | 30,099
| BSAI Apr 1-Jun 10 | 0.8609 | 5,197 | 4,474 | 5,197 | 4,474
| BSAI Jun 10-Nov 1 | 0.8609 | 7,087 | 6,101 | 7,087 | 6,101
Sablefish trawl gear | BS | 0.0906 | 541 | 49 | 541 | 49
| AI | 0.0645 | 369 | 24 | 369 | 24
Atka mackerel | Eastern AI/BS Jan 1-Jun 10 | 0.0032 | 15,405 | 49 | 15,405 | 49
| Eastern AI/BS Jun 10-Nov 1 | 0.0032 | 15,405 | 49 | 15,405 | 49
| Central AI Jan 1-Jun 10 | 0.0001 | 8,037 | 1 | 8,037 | 1
| Central AI Jun 10-Nov 1 | 0.0001 | 8,037 | 1 | 8,037 | 1
| Western AI Jan 1-Jun 10 | 0 | 5,582 | 0 | 5,582 | 0
| Western AI Jun 10-Nov 1 | 0 | 5,582 | 0 | 5,582 | 0
Rock sole | BSAI | 0.0341 | 42,060 | 1,434 | 42,060 | 1,434
Greenland turbot | BS | 0.0645 | 3,719 | 240 | 3,719 | 240
| AI | 0.0205 | 106 | 2 | 106 | 2
Arrowtooth flounder | BSAI | 0.069 | 11,900 | 821 | 11,900 | 821
Kamchatka flounder | BSAI | 0.069 | 4,250 | 293 | 4,250 | 293
Alaska plaice | BSAI | 0.0441 | 11,050 | 487 | 11,050 | 487
Other flatfish | BSAI | 0.0441 | 2,125 | 94 | 2,125 | 94
Flathead sole | BS | 0.0505 | 1,294 | 65 | 1,294 | 65
Pacific ocean perch | BS | 0.1 | 9,350 | 935 | 9,350 | 935
| Eastern AI | 0.0077 | 7,055 | 54 | 7,055 | 54
| Central AI | 0.0025 | 6,251 | 16 | 6,251 | 16
| Western AI | 0 | 8,037 | 0 | 8,037 | 0
Northern rockfish | BSAI | 0.0084 | 4,250 | 36 | 4,250 | 36
Shortraker rockfish | BSAI | 0.0037 | 125 | 0 | 125 | 0
Rougheye rockfish | EBS/EAI | 0.0037 | 100 | 0 | 100 | 0
| CAI/WAI | 0.0037 | 125 | 0 | 125 | 0
Other rockfish | BS | 0.0048 | 325 | 2 | 325 | 2
| AI | 0.0095 | 550 | 5 | 550 | 5
Skates | BSAI | 0.0541 | 22,100 | 1,196 | 22,100 | 1,196
Sculpins | BSAI | 0.0541 | 3,825 | 207 | 3,825 | 207
Sharks | BSAI | 0.0541 | 125 | 7 | 125 | 7
Squids | BSAI | 0.3827 | 1,141 | 437 | 1,141 | 437
Octopuses | BSAI | 0.0541 | 400 | 22 | 400 | 22
¹ Aleutians Islands Pacific ocean perch, and BSAI Atka mackerel, flathead sole, Pacific cod, and rock sole are multiplied by the remainder of the TAC of that species after the subtraction of the CDQ reserve under § 679.20(b)(1)(ii)(C).

Table 24—Final 2017 and 2018 American Fisheries Act Catcher Vessel Prohibited Species Catch Sideboard Limits for the BSAI ¹
PSC species and area ¹ | Target fishery category ² | AFA catcher vessel PSC sideboard limit ratio | 2017 and 2018 PSC limit after subtraction of PSQ reserves ³ | 2017 and 2018 AFA catcher vessel PSC sideboard limit ³
Halibut | Pacific cod trawl | n/a | n/a | 887
| Pacific cod hook-and-line or pot | n/a | n/a | 2
| Yellowfin sole total | n/a | n/a | 101
| Rock sole/flathead sole/other flatfish ⁴ | n/a | n/a | 228
| Greenland turbot/arrowtooth/sablefish ⁵ | n/a | n/a | 0
| Rockfish | n/a | n/a | 2
| Pollock/Atka mackerel/other species ⁶ | n/a | n/a | 5
Red king crab Zone 1 | n/a | 0.299 | 86,621 | 25,900
C. opilio COBLZ | n/a | 0.168 | 8,131,191 | 1,366,040
C. bairdi Zone 1 | n/a | 0.33 | 741,190 | 244,593
C. bairdi Zone 2 | n/a | 0.186 | 1,848,510 | 343,823
¹ Refer to § 679.2 for definitions of areas.
² Target trawl fishery categories for halibut PSC limits are defined at § 679.21(b)(1)(ii)(B).
³ Halibut amounts are in metric tons of halibut mortality. Crab amounts are in numbers of animals.
⁴ “Other flatfish” for PSC monitoring includes all flatfish species, except for halibut (a prohibited species), flathead sole, Greenland turbot, rock sole, yellowfin sole, Kamchatka flounder, and arrowtooth flounder.
⁵ Arrowtooth for PSC monitoring includes Kamchatka flounder.
⁶ “Other species” for PSC monitoring includes skates, sculpins, sharks, squids, and octopuses.

AFA Catcher/Processor and Catcher Vessel Sideboard Directed Fishing Closures

Based on historical catch patterns, the Regional Administrator has determined that many of the AFA C/P and CV sideboard limits listed in Tables 25 and 26 are necessary as incidental catch to support other anticipated groundfish fisheries for the 2017 and 2018 fishing years. In accordance with § 679.20(d)(1)(iv), the Regional Administrator establishes the sideboard limits listed in Tables 25 and 26 as DFAs. Because many of these DFAs will be reached before the end of 2017, the Regional Administrator has determined, in accordance with § 679.20(d)(1)(iii), that NMFS is prohibiting directed fishing by listed AFA C/Ps for the species in the specified areas set out in Table 25, and directed fishing by non-exempt AFA CVs for the species in the specified areas set out in Table 26.

Table 25—Final 2017 and 2018 American Fisheries Act Listed Catcher/Processor Sideboard Directed Fishing Closures ¹
[Amounts are in metric tons]
Species | Area | Gear types | 2017 sideboard limit | 2018 sideboard limit
Sablefish trawl | BS | trawl | 9 | 9
| AI | trawl | 0 | 0
Rock sole | BSAI | all | 1,556 | 1,556
Greenland turbot | BS | all | 26 | 26
| AI | all | 1 | 1
Arrowtooth flounder | BSAI | all | 24 | 24
Kamchatka flounder | BSAI | all | 9 | 9
Alaska plaice | BSAI | all | 11 | 11
Other flatfish ² | BSAI | all | 123 | 123
Flathead sole | BSAI | all | 466 | 466
Pacific ocean perch | BS | all | 19 | 19
| Eastern AI | all | 141 | 141
| Central AI | all | 6 | 6
| Western AI | all | 32 | 32
Northern rockfish | BSAI | all | 30 | 30
Shortraker rockfish | BSAI | all | 2 | 2
Rougheye rockfish | EBS/EAI | all | 2 | 2
| CAI/WAI | all | 2 | 2
Other rockfish ³ | BS | all | 9 | 9
| AI | all | 15 | 15
Skates | BSAI | all | 177 | 177
Sculpins | BSAI | all | 31 | 31
Sharks | BSAI | all | 1 | 1
Squids | BSAI | all | 25 | 25
Octopuses | BSAI | all | 3 | 3
¹ Maximum retainable amounts may be found in Table 11 to 50 CFR part 679.
² “Other flatfish” includes all flatfish species, except for halibut, Alaska plaice, flathead sole, Greenland turbot, rock sole, yellowfin sole, Kamchatka flounder, and arrowtooth flounder.
³ “Other rockfish” includes all Sebastes and Sebastolobus species except for Pacific ocean perch, northern rockfish, shortraker rockfish, and rougheye rockfish.

Table 26—Final 2017 and 2018 American Fisheries Act Catcher Vessel Sideboard Directed Fishing Closures ¹
[Amounts are in metric tons]
Species | Area | Gear types | 2017 sideboard limit | 2018 sideboard limit
Pacific cod | BSAI | hook-and-line CV ≥60 feet LOA | 0 | 0
| BSAI | pot CV ≥60 feet LOA | 10 | 10
| BSAI | hook-and-line or pot CV <60 feet LOA | 3 | 3
| BSAI | jig | 0 | 0
Sablefish | BS | trawl | 49 | 49
| AI | trawl | 24 | 24
Atka mackerel | Eastern AI/BS | all | 98 | 98
| Central AI | all | 2 | 2
| Western AI | all | 0 | 0
Greenland turbot | BS | all | 240 | 240
| AI | all | 2 | 2
Arrowtooth flounder | BSAI | all | 821 | 821
Kamchatka flounder | BSAI | all | 293 | 293
Alaska plaice | BSAI | all | 487 | 487
Other flatfish ² | BSAI | all | 94 | 94
Flathead sole | BSAI | all | 65 | 65
Rock sole | BSAI | all | 1,434 | 1,434
Pacific ocean perch | BS | all | 935 | 935
| Eastern AI | all | 54 | 54
| Central AI | all | 16 | 16
| Western AI | all | 0 | 0
Northern rockfish | BSAI | all | 36 | 36
Shortraker rockfish | BSAI | all | 0 | 0
Rougheye rockfish | BS/EAI | all | 0 | 0
| CAI/WAI | all | 0 | 0
Other rockfish ³ | BS | all | 2 | 2
| AI | all | 5 | 5
Skates | BSAI | all | 1,196 | 1,196
Sculpins | BSAI | all | 207 | 207
Sharks | BSAI | all | 7 | 7
Squids | BSAI | all | 437 | 437
Octopuses | BSAI | all | 22 | 22
¹ Maximum retainable amounts may be found in Table 11 to 50 CFR part 679.
² “Other flatfish” includes all flatfish species, except for halibut, Alaska plaice, flathead sole, Greenland turbot, rock sole, yellowfin sole, Kamchatka flounder, and arrowtooth flounder.
³ “Other rockfish” includes all Sebastes and Sebastolobus species except for Pacific ocean perch, northern rockfish, shortraker rockfish, and rougheye rockfish.

Response to Comments

NMFS received 1 letter with 1 substantive comment during the public comment period for the proposed BSAI groundfish harvest specifications. No changes were made to the final rule in response to the comment letter received. NMFS' response to public comment on the proposed BSAI groundfish harvest specifications is provided below.

Comment 1: NMFS must manage halibut under their own FMP pursuant to the Magnuson-Stevens Act to properly conserve and manage Pacific halibut and prevent overfishing. The Magnuson-Stevens Act requires every fishery management council to develop an FMP for each fishery under its authority that requires conservation and management. NMFS has failed to establish required status determination criteria for halibut stocks that are caught as non-target stocks in the groundfish fishery before finalizing harvest specifications for the groundfish fishery. The groundfish FMP does not establish criteria to assess whether the halibut stock is overfished or subject to overfishing. Although the IPHC assesses halibut stock populations every year, the IPHC has also never developed objective criteria to measure the status of halibut populations. As a result, there is no way for NMFS to ensure that halibut bycatch management measures it implements through the harvest specification process will prevent overfishing or rebuild an overfished halibut stock without first determining whether the halibut stock is overfished or whether the non-target catch of halibut amounts to overfishing. To protect halibut populations for the future and to meet its obligations under the Magnuson-Stevens Act to prevent overfishing, NMFS must establish an FMP for halibut that includes objective criteria to monitor the status of halibut stocks and identify when the halibut stock is overfished or subject to overfishing.

Response: NMFS acknowledges this comment as outside the scope of this action. NMFS manages groundfish fisheries and prohibited species under the FMP. The FMP and its implementing regulations require NMFS, after consultation with the Council, to specify the TAC for each groundfish target species category. NMFS also must specify PSC allowances and PSQ reserves as established pursuant to 50 CFR 679.21. NMFS implements these requirements through the annual harvest specifications. The limits set forth in the harvest specifications are based on the most recent scientific and economic information and are consistent with the FMP, regulatory obligations, and harvest strategy, which was described in the proposed harvest specifications (81 FR 87863, December 6, 2016).

In the Bering Sea and Aleutian Islands, NMFS and the Council manage halibut as prohibited species. The PSC limits for halibut are set by regulation (see 50 CFR 679.21). NMFS and the Council also must manage halibut bycatch in accordance with the Magnuson-Steven Act and the National Standards therein. NMFS and the Council are committed to minimizing halibut bycatch in the BSAI consistent with Magnuson-Stevens Act obligations to minimize bycatch to the extent practicable and to achieve, on a continuing basis, optimum yield from the groundfish fisheries. The halibut PSC limits reflect that NMFS and the Council balance the requirement to minimize halibut bycatch to the extent practicable, consistent with National Standard 9, with the requirement to achieve optimum yield in the groundfish fishery, consistent with National Standard 1. NMFS and the Council have appropriately balanced obligations under National Standard 1 and National Standard 9 to minimize halibut PSC in the commercial groundfish fisheries to the extent practicable, while preserving the potential for the groundfish sectors to fully harvest the groundfish TACs assigned to the trawl and non-trawl sectors.

The current halibut PSC limits have decreased halibut PSC use. In the BSAI, the current halibut PSC is 1,142 mt less than in 2014, an overall reduction of 39 percent. The Council and NMFS will continue to evaluate the need to implement additional measures to minimize halibut bycatch in the BSAI groundfish fisheries consistent with Magnuson-Stevens Act obligations. Such measures, however, will have to be implemented through the Council process. A detailed description of the Council process may be found at http://www.npfmc.org/overview/.

Classification

NMFS has determined that these final harvest specifications are consistent with the FMP and with the Magnuson-Stevens Act and other applicable laws.

This action is authorized under 50 CFR 679.20 and is exempt from review under Executive Orders 12866 and 13563.

NMFS prepared an EIS that covers this action (see ADDRESSES) and made it available to the public on January 12, 2007 (72 FR 1512). On February 13, 2007, NMFS issued the Record of Decision (ROD) for the EIS. In January 2017, NMFS prepared a Supplemental Information Report (SIR) for this action. Copies of the EIS, ROD, and SIR for this action are available from NMFS (see ADDRESSES). The EIS analyzes the environmental consequences of the groundfish harvest specifications and alternative harvest strategies on resources in the action area. The EIS found no significant environmental consequences of this action and its alternatives. The SIR evaluates the need to prepare a Supplemental EIS (SEIS) for the 2017 and 2018 groundfish harvest specifications.

An SEIS should be prepared if (1) the agency makes substantial changes in the proposed action that are relevant to environmental concerns; or (2) significant new circumstances or information exist relevant to environmental concerns and bearing on the proposed action or its impacts (40 CFR 1502.9(c)(1)). After reviewing the information contained in the SIR and SAFE reports, the Regional Administrator has determined that (1) approval of the 2017 and 2018 harvest specifications, which were set according to the preferred harvest strategy in the EIS, do not constitute a change in the action; and (2) there are no significant new circumstances or information relevant to environmental concerns and bearing on the action or its impacts. Additionally, the 2017 and 2018 harvest specifications will result in environmental impacts within the scope of those analyzed and disclosed in the EIS. Therefore, supplemental NEPA documentation is not necessary to implement the 2017 and 2018 harvest specifications.

Section 604 of the Regulatory Flexibility Act (RFA) (5 U.S.C. 604) requires that, when an agency promulgates a final rule under section 553 of Title 5 of the United States Code, after being required by that section, or any other law, to publish a general notice of proposed rulemaking, the agency shall prepare a final regulatory flexibility analysis (FRFA). The following constitutes the FRFA prepared in the final action.

Section 604 describes the required contents of a FRFA: (1) A statement of the need for, and objectives of, the rule; (2) a statement of the significant issues raised by the public comments in response to the initial regulatory flexibility analysis, a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping, and other compliance requirements of the rule, including an estimate of the classes of small entities which will be subject to the requirement and the type of professional skills necessary for preparation of the report or record; and (6) a description of the steps the agency has taken to minimize the significant economic impact on small entities consistent with the stated objectives of applicable statutes, including a statement of the factual, policy, and legal reasons for selecting the alternative adopted in the final rule and why each one of the other significant alternatives to the rule considered by the agency which affect the impact on small entities was rejected.

A description of this action, its purpose, and its legal basis are included at the beginning of the preamble to this final rule and are not repeated here.

NMFS published the proposed rule on December 6, 2016 (81 FR 87863). NMFS prepared an Initial Regulatory Flexibility Analysis (IRFA) to accompany the proposed action, and included a summary in the proposed rule. The comment period closed on January 5, 2017. No comments were received on the IRFA. The Chief Counsel for Advocacy of the Small Business Administration did not file any comments on the proposed rule.

The entities directly regulated by this action are those that harvest groundfish in the exclusive economic zone of the BSAI and in parallel fisheries within State waters. These include entities operating catcher vessels and catcher/processors within the action area and entities receiving direct allocations of groundfish.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide.

The estimated directly regulated small entities in 2015 include approximately 152 catcher vessels, four catcher/processors, and six CDQ groups. Some of these vessels are members of AFA inshore pollock cooperatives, Gulf of Alaska rockfish cooperatives, or BSAI Crab Rationalization Program cooperatives, and, since under the RFA it is the aggregate gross receipts of all participating members of the cooperative that must meet the “under $11 million” threshold, they are considered to be large entities within the meaning of the RFA. Thus, the estimate of 152 catcher vessels may be an overstatement of the number of small entities. Average gross revenues were $520,000 for small hook-and-line vessels, $1.29 million for small pot vessels, and $2.99 million for small trawl vessels. Revenue data for catcher/processors is confidential; however, in 2015, NMFS estimates that there were four catcher/processor small entities with gross receipts less than $11 million.

This action does not modify recordkeeping or reporting requirements.

The significant alternatives were those considered as alternative harvest strategies when the Council selected its preferred harvest strategy (Alternative 2) in December 2006. These included the following:

• Alternative 1: Set TAC to produce fishing mortality rates, F, that are equal to maxFABC, unless the sum of the TAC is constrained by the OY established in the fishery management plans. This is equivalent to setting TAC to produce harvest levels equal to the maximum permissible ABC, as constrained by OY. The term “maxFABC” refers to the maximum permissible value of FABC under Amendment 56 to the BSAI and Gulf of Alaska groundfish fishery management plans. Historically, the TAC has been set at or below the ABC; therefore, this alternative represents a likely upper limit for setting the TAC within the OY and ABC limits.

• Alternative 3: For species in Tiers 1, 2, and 3, set TAC to produce F equal to the most recent 5-year average actual F. For species in Tiers 4, 5, and 6, set TAC equal to the most recent 5-year average actual catch. For stocks with a high level of scientific information, TAC would be set to produce harvest levels equal to the most recent 5-year average actual fishing mortality rates. For stocks with insufficient scientific information, TAC would be set equal to the most recent 5-year average actual catch. This alternative recognizes that for some stocks, catches may fall well below ABC, and recent average F may provide a better indicator of actual F than FABC does.

• Alternative 4: (1) Set TAC for rockfish species in Tier 3 at F75%. Set TAC for rockfish species in Tier 5 at F=0.5M. Set spatially explicit TAC for shortraker and rougheye rockfish in the BSAI. (2) Taking the rockfish TAC as calculated above, reduce all other TAC by a proportion that does not vary across species, so that the sum of all TAC, including rockfish TAC, is equal to the lower bound of the area OY (1,400,000 mt in the BSAI). This alternative sets conservative and spatially explicit TAC for rockfish species that are long-lived and late to mature, and sets conservative TAC for the other groundfish species.

• Alternative 5: Set TAC at zero.

Alternative 2 is the preferred alternative chosen by the Council: Set TAC that fall within the range of ABC recommended through the Council harvest specifications process and TACs recommended by the Council. Under this scenario, F is set equal to a constant fraction of maxFABC. The recommended fractions of maxFABC may vary among species or stocks, based on other considerations unique to each. This is the method for determining TAC that has been used in the past.

Alternatives 1, 3, 4, and 5 do not meet the objectives of this action, and although Alternatives 1 and 3 may have a smaller adverse economic impact on small entities than the preferred alternative, Alternatives 4 and 5 would have a significant adverse economic impact on small entities. The Council rejected these alternatives as harvest strategies in 2006, and the Secretary of Commerce did so in 2007. Alternative 1 would lead to TAC limits whose sum exceeds the fishery OY, which is set out in statute and the FMP. As shown in Table 1 and Table 2, the sum of ABCs in 2017 and 2018 would be 4,013,993 mt and 4,214,648 mt, respectively. Both of these are substantially in excess of the fishery OY for the BSAI. This result would be inconsistent with the objectives of this action, in that it would violate the Consolidated Appropriations Act of 2004, Public Law 108-199, Section 803(c), and the FMP for the BSAI groundfish fishery, which both set a 2 million mt maximum harvest for BSAI groundfish.

Alternative 3 selects harvest rates based on the most recent 5 years' worth of harvest rates (for species in Tiers 1 through 3) or for the most recent 5 years' worth of harvests (for species in Tiers 4 through 6). This alternative is also inconsistent with the objectives of this action because it does not take into account the most recent biological information for this fishery.

Alternative 4 would lead to significantly lower harvests of all species to reduce TAC from the upper end of the OY range in the BSAI to its lower end. This result would lead to significant reductions in harvests of species by small entities. While reductions of this size could be associated with offsetting price increases, the size of these increases is very uncertain, and NMFS has no confidence that they would be sufficient to offset the volume decreases and leave revenues unchanged. Thus, this action would have an adverse economic impact on small entities, compared to the preferred alternative.

Alternative 5, which sets all harvests equal to zero, may also address conservation issues, but would have a significant adverse economic impact on small entities.

Impacts on marine mammals resulting from fishing activities conducted under this rule are discussed in the EIS (see ADDRESSES).

Pursuant to 5 U.S.C. 553(d)(3), the Assistant Administrator for Fisheries, NOAA, finds good cause to waive the 30-day delay in effectiveness for this rule because delaying this rule is contrary to the public interest. Plan Team review occurred in November 2016, and the Council considered and recommended the final harvest specifications in December 2016. Accordingly, NMFS' review could not begin until after the December 2016 Council meeting, and after the public had time to comment on the proposed action. If this rule's effectiveness is delayed, fisheries that might otherwise remain open under these rules may prematurely close based on the lower TACs established in the final 2016 and 2017 harvest specifications (81 FR 14773, March 18, 2016). If implemented immediately, this rule would allow these fisheries to continue fishing without the industry worrying about a potential closure because some TAC limits are higher than the ones under which they are currently fishing. Certain fisheries, such as those for pollock and Pacific cod, are intensive, fast-paced fisheries. Other fisheries, such as those for flatfish, rockfish, skates, sculpins, sharks, and octopuses, are critical as directed fisheries and as incidental catch in other fisheries. U.S. fishing vessels have demonstrated the capacity to catch the TAC allocations in these fisheries. Any delay in allocating the final TAC limits in these fisheries would cause confusion in the industry and potential economic harm through unnecessary discards. Determining which fisheries may close is impossible because these fisheries are affected by several factors that cannot be predicted in advance, including fishing effort, weather, movement of fishery stocks, and market price. Furthermore, the closure of one fishery has a cascading effect on other fisheries by freeing up fishing vessels, allowing them to move from closed fisheries to open ones, increasing the fishing capacity in those open fisheries, and causing them to close at an accelerated pace.

Additionally, in fisheries subject to declining sideboards, delaying this rule's effectiveness could allow some vessels to inadvertently reach or exceed their new sideboard levels. Because sideboards are intended to protect traditional fisheries in other sectors, allowing one sector to exceed its new sideboards by delaying this rule's effectiveness would effectively reduce the available catch for sectors without sideboard limits. Moreover, the new TAC and sideboard limits protect the fisheries from being overfished. Thus, the delay is contrary to the public interest in protecting traditional fisheries and fish stocks.

If the final harvest specifications are not effective by March 11, 2017, which is the start of the 2017 Pacific halibut season as specified by the IPHC, the hook-and-line sablefish fishery will not begin concurrently with the Pacific halibut IFQ season. Delayed effectiveness of this action would result in confusion for sablefish harvesters and economic harm from unnecessary discard of sablefish that are caught along with Pacific halibut, as both hook-and-line sablefish and Pacific halibut are managed under the same IFQ program. Immediate effectiveness of the final 2017 and 2018 harvest specifications will allow the sablefish IFQ fishery to begin concurrently with the Pacific halibut IFQ season. Also, immediate effectiveness of this action will ensure consistent management and conservation of fishery resources based upon the best available scientific information, particularly for those species that have lower 2017 ABC and TAC limits than those established in the 2016 and 2017 harvest specifications (81 FR 14773, March 18, 2016). Immediate effectiveness also would provide the fishing industry the earliest possible opportunity to plan and conduct its fishing operations with respect to new information about TAC limits. Therefore, NMFS finds good cause to waive the 30-day delay in effectiveness under 5 U.S.C. 553(d)(3).

Small Entity Compliance Guide

This final rule is a plain language guide to assist small entities in complying with this final rule as required by the Small Business Regulatory Enforcement Fairness Act of 1996. This final rule's primary purpose is to announce the final 2017 and 2018 harvest specifications and prohibited species bycatch allowances for the groundfish fisheries of the BSAI. This action is necessary to establish harvest limits and associated management measures for groundfish during the 2017 and 2018 fishing years and to accomplish the goals and objectives of the FMP. This action directly affects all fishermen who participate in the BSAI fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: February 21, 2017.
Alan D. Risenhoover,
Acting Deputy Assistant Administrator for Regulatory Programs, National Marine Fisheries Service.

[FR Doc. 2017-03698 Filed 2-24-17; 8:45 am]

BILLING CODE 3510-22-P